DEPARTMENT OF HOUSING AND URBAN DEVELOPMENT

[Docket No. FR-4557-N-40]

Federal Property Suitable as Facilities To Assist the Homeless

AGENCY: Office of the Assistant Secretary for Community Planning and Development, HUD.

ACTION: Notice.

SUMMARY: This Notice identifies unutilized, underutilized, excess, and surplus Federal property reviewed by HUD for suitability for possible use to assist the homeless.

FOR FURTHER INFORMATION CONTACT: Clifford Taffet, room 7266, Department of Housing and Urban Development, 451 Seventh Street SW, Washington, DC 20410; telephone (202) 708-1234; TTY number for the hearing- and speech-impaired (202) 708-2565 (these telephone numbers are not toll-free), or call the toll-free Title V information line at 1-800-927-7588.

SUPPLEMENTARY INFORMATION: In accordance with 24 CFR part 581 and section 501 of the Stewart B. McKinney Homeless Assistance Act (42 U.S.C. 11411), as amended, HUD is publishing this Notice to identify Federal buildings and other real property that HUD has reviewed for suitability for use to assist the homeless. The properties were reviewed using information provided to HUD by Federal landholding agencies regarding unutilized and underutilized buildings and real property controlled by such agencies or by GSA regarding its inventory of excess or surplus Federal property. This Notice is also published in order to comply with the December 12, 1988 Court Order in National Coalition for the Homeless v. Veterans Administration, No. 88-2503-OG (D.D.C.).

Properties reviewed are listed in this Notice according to the following categories: Suitable/available, suitable/unavailable, suitable/to be excess, and unsuitable. The properties listed in the three suitable categories have been reviewed by the landholding agencies, and each agency has transmitted to HUD: (1) Its intention to make the property available for use to assist the homeless, (2) its intention to declare the property excess to the agency's needs, or (3) a statement of the reasons that the property cannot be declared excess or made available for use as facilities to assist the homeless.

Properties listed as suitable/available will be available exclusively for homeless use for a period of 60 days from the date of this Notice. Homeless assistance providers interested in any such property should send a written expression of interest to HHS, addressed to Brian Rooney, Division of Property Management, Program Support Center, HHS, room 5B-41, 5600 Fishers Lane, Rockville, MD 20857; (301) 443-2265. (This is not a toll-free number.) HHS will mail to the interested provider an application packet, which will include instructions for completing the application. In order to maximize the opportunity to utilize a suitable property, providers should submit their written expressions of interest as soon as possible. For complete details concerning the processing of applications, the reader is encouraged to refer to the interim rule governing this program, 24 CFR part 581.

For properties listed as suitable/to be excess, that property may, if subsequently accepted as excess by GSA, be made available for use by the homeless in accordance with applicable law, subject to screening for other Federal use. At the appropriate time, HUD will publish the property in a Notice showing it as either suitable/available or suitable/unavailable.

For properties listed as suitable/unavailable, the landholding agency has decided that the property cannot be declared excess or made available for use to assist the homeless, and the property will not be available.

Properties listed as unsuitable will not be made available for any other purpose for 20 days from the date of this Notice. Homeless assistance providers interested in a review by HUD of the determination of unsuitability should call the toll free information line at 1-800-927-7588 for detailed instructions or write a letter to Clifford Taffet at the address listed at the beginning of this Notice. Included in the request for review should be the property address (including zip code), the date of publication in the Federal Register, the landholding agency, and the property number.

For more information regarding particular properties identified in this Notice (i.e., acreage, floor plan, existing sanitary facilities, exact street address), providers should contact the appropriate landholding agencies at the following addresses: NAVY: Mr. Charles C. Cocks, Director, Department of the Navy, Real Estate Policy Division, Naval Facilities Engineering Command, Washington Navy Yard, 1322 Patterson Ave., SE, Suite 1000, Washington, DC 20374-5065; (202) 685-9200; (These are not toll-free numbers).

Dated: September 28, 2000.
John D. Garrity,
Director, Office of Special Needs Assistance Programs.

Title V, Federal Surplus Property Program Federal Register Report for 10/6/00

Suitable/Available Properties

Buildings (by State)

California

Bldg. 301

Naval Support Activity

Monterey Co: CA 93943-

Landholding Agency: Navy

Property Number: 772000200041

Status: Excess

Comment: 18,608 sq. ft., pressence of asbestos/lead paint, needs major rehab.

Bldg. 371

Naval Warfare Systems Center

San Diego Co: CA 92152-

Landholding Agency: Navy

Property Number: 77200020080

Status: Unutilized

Comment: 29,000 sq. ft., needs rehab, presence of asbestos/lead paint, off-site use only.

Bldg. 402

Naval Warfare Systems Center

San Diego Co: CA 92152-

Landholding Agency: Navy

Property Number: 77200020081

Status: Unutilized

Comment: presence of lead paint, most recent use—storage, off-site use only.

Bldg. 417

Naval Warfare Systems Center

San Diego Co: CA 92152-

Landholding Agency: Navy

Property Number: 77200020082

Status: Unutilized

Comment: 110 TR, needs rehab, presence of asbestos/lead paint, off-site use only.

Bldg. 418

Naval Warfare Systems Center

San Diego Co: CA 92152-

Landholding Agency: Navy

Property Number: 77200020083

Status: Unutilized

Comment: 288 sq. ft., presence of lead paint, most recent use—storage, off-site use only.

Bldg. 426

Naval Warfare Systems Center

San Diego Co: CA 92152-

Landholding Agency: Navy

Property Number: 77200020084

Status: Unutilized

Comment: presence of asbestos/lead asbestos/paint, off-site use only.

Bldg. 434

Naval Warfare Systems Center

San Diego Co: CA 92152-

Landholding Agency: Navy

Property Number: 77200020085

Status: Unutilized

Comment: 11,440 sq. ft., needs rehab, presence of asbestos/lead paint, off-site use only.

Bldg. 210

Naval Warfare Assessment Station

Corona Co: CA 91718-5000

Landholding Agency: Navy

Property Number: 77200020086

Status: Unutilized

Comment: 17,708 sq. ft., needs rehab, presence of asbestos/lead paint, most recent use—police station, off-site use only.

Bldg. 541

Naval Warfare Assessment Station

Corona Co: CA 91718-5000

Landholding Agency: Navy

Property Number: 77200020087

Status: Unutilized

Comment: 3857 sq. ft., needs rehab, presence of asbestos/lead paint, most recent use—lab, off-site use only.

Bldg. 804

Naval Warfare Assessment Station

Corona Co: CA 91718-5000

Landholding Agency: Navy

Property Number: 77200020088

Status: Unutilized

Comment: 3119 sq. ft., needs rehab, presence of asbestos/lead paint, most recent use—admin., off-site use only.

Bldg. 805

Naval Warfare Assessment Station

Corona Co: CA 91718-5000

Landholding Agency: Navy

Property Number: 77200020089

Status: Unutilized

Comment: 3732 sq ft., needs rehab, presence of asbetos/lead paint, most recent use—storage, off-site use only.

Bldg. 806

Naval Warfare Assessment Station

Corona Co: CA 91718-5000

Landholding Agency: Navy

Property Number: 77200020090

Status: Unutilized

Comment: 3110 sq. ft., needs rehab, presence of asbestos/lead paint, most recent use—office, off-site use only.

Bldg. 807

Naval Warfare Assessment Station

Corona Co: CA 91718-5000

Landholding Agency: Navy

Property Number: 77200020091

Status: Unutilized

Comment: 3110 sq. ft., needs rehab, presence of asbestos/lead paint, most recent use—office, off-site use only.

Hawaii

Bldg. S87, Radio Trans. Fac.

Lualualei, Naval Station, Eastern Pacific

Wahiawa Co: Honolulu HI 96786-3050

Landholding Agency: Navy

Property Number: 77199240011

Status: Unutilized

Comment: 7566 sq. ft., 1-story, needs rehab, most recent use—storage, off-site use only.

Bldg. 64, Radio Trans Facility

Naval Computer & Telecommunications Area

Wahiawa Co: Honolulu HI 96786-3050

Landholding Agency: Navy

Property Number: 77199310004

Status: Unutilized

Comment: 3612 sq. ft., 1 story, access restrictions, needs rehab, most recent use—storage, off-site use only.

Bldg. 442, Naval Station

Ford Island

Pearl Harbor Co: Honolulu HI 96860-

Landholding Agency: Navy

Property Number: 77199630088

Status: Excess

Comment: 192 sq. ft., most recent use—storage, off-site use only.

Bldg. S180

Naval Station, Ford Island

Pearl Harbor Co: Honolulu HI 96860-

Landholding Agency: Navy

Property Number: 77199640039

Status: Unutilized

Comment: 3412 sq. ft., 2-story, most recent use—bomb shelter, off-site use only, relocation may not be feasible.

Bldg. S181

Naval Station, Ford Island

Pearl Harbor Co: Honolulu HI 96860-

Landholding Agency: Navy

Property Number: 77199640040

Status: Unutilized

Comment: 4258 sq.ft., 1-story, most recent use—bomb shelter, off-site use only, relocation may not be feasible.

Bldg. 219

Naval Station, Ford Island

Pearl Harbor Co: Honolulu HI 96860-

Landholding Agency: Navy

Property Number: 77199640041

Status: Unutilized

Comment: 620 sq. ft., most recent use—damage control, off-site use only, relocation may not be feasible.

Bldg. 220

Naval Station, Ford Island

Pearl Harbor Co: Honolulu HI 96860-

Landholding Agency: Navy

Property Number: 77199640042

Status: Unutilized

Comment: 620 sq. ft., most recent use—damage control, off-site use only, relocation may not be feasible.

Bldg. 160

Naval Station, Pearl Harbor

Pearl Harbor Co: Honolulu HI 96860-

Landholding Agency: Navy

Property Number: 77199840002

Status: Excess

Comment: 6070 sq. ft., needs rehab, presence of lead paint, most recent use—storage/office, off-site use only.

Maine

Bldg. 4

Naval Air Station

Brunswick Co: ME 04011-

Landholding Agency: Navy

Property Number: 77199930005

Status: Excess

Comment: 16,644 sq. ft., presence of asbestos/lead paint, most recent use—headquarters building, off-site use only.

Bldg. 8

Naval Air Station

Brunswick Co: ME 04011-

Landholding Agency: Navy

Property Number: 77199930006

Status: Excess

Comment: 7413 sq. ft., presence of asbestos/lead paint, most recent use—public works building, off-site use only.

Bldg. 12

Naval Air Station

Brunswick Co: ME 04011-

Landholding Agency: Navy

Property Number: 77199930007

Status: Excess

Comment: 25,354 sq. ft., presence of asbestos/lead paint, most recent use—admin., off-site use only.

Bldg. 41

Naval Air Station

Brunswick Co: ME 04011-

Landholding Agency: Navy

Property Number: 77199930008

Status: Excess

Comment: 10,526 sq. ft., presence of asbestos/lead paint, most recent use—security building, off-site use only.

Maryland

Bldg. 139

Naval Surface Warfare Center

Carderock Division

West Bethesda Co: Montgomery MD 20817-5700

Landholding Agency: Navy

Property Number: 77200010032

Status: Unutilized

Comment: 4950 sq. ft., possible asbestos/lead paint, most recent use—wind tunnel, off-site use only.

New Hampshire

Bldg. 128

Portsmouth Naval Shipyard

Portsmouth NH 03804-5000

Landholding Agency: Navy

Property Number: 77199830015

Status: Excess

Comment: 10,900 sq. ft., needs rehab, presence of asbestos, most recent use—storage, off-site use only.

Bldg. 185

Portsmouth Naval Shipyard

Portsmouth NH 03804-5000

Landholding Agency: Navy

Property Number: 77199830016

Status: Excess

Comment: 2310 sq. ft., needs rehab, presence of asbestos, most recent use—office, off-site use only.

Bldg. 314

Portsmouth Naval Shipyard

Portsmouth NH 03804-5000

Landholding Agency: Navy

Property Number: 77199830017

Status: Excess

Comment: cement block bldg., needs rehab, presence of asbestos, most recent use—storage, off-site use only.

Bldg. 336

Portsmouth Naval Shipyard

Portsmouth NH 03804-5000

Landholding Agency: Navy

Property Number: 77199830018

Status: Excess

Comment: metal bldg w/cement block foundation, off-site use only

Bldg. 160

Portsmouth Naval Shipyard

Portsmouth Co: NH 03804-5000

Landholding Agency: Navy

Property Number: 77199910046

Status: Unutilized

Comment: 6080 sq. ft., possible asbestos, most recent use—storage, off-site use only.

Bldg. 179

Portsmouth Naval Shipyard

Portsmouth Co: NH 03804-5000

Landholding Agency: Navy

Property Number: 77200020099

Status: Excess

Comment: 1452 sq. ft., needs rehab, presence of asbestos/lead paint, most recent use—quarters, off-site use only.

Bldg. 201

Portsmouth Naval Shipyard

Portsmouth Co: NH 03804-5000

Landholding Agency: Navy

Property Number: 77200020100

Status: Excess

Comment: 450 sq. ft., presence of asbestos/lead paint, office-site use only.

Bldg. 304

Portsmouth Naval Shipyard

Portsmouth Co: NH 03804-5000

Landholding Agency: Navy

Property Number: 77200020101

Status: Excess

Comment: 1320 sq. ft., presence of asbestos/lead paint, most recent use—garb. house, off-site use only.

New Jersey

Bldg. D1-A

Naval Weapons Station

Colts Neck Co: NJ 07722-

Landholding Agency: Navy

Property Number: 77199940024

Status: Unutilized

Comment: 1134 sq. ft., presence of lead paint, most recent use—smokehouse/lunchroom, off-site use only.

Bldg. HA-1A

Naval Weapons Station

Colts Neck Co: NJ 07722-

Landholding Agency: Navy

Property Number: 77199940025

Status: Unutilized

Comment; 120 sq. ft., most recent use—storage, off-site use only.

Bldg. C-16

Naval Weapons Station

Colts Neck Co: Earle NJ 07722-

Landholding Agency: Navy

Property Number: 77200010014

Status: Unutilized

Comment: 34,811 sq. ft., presence of asbestos/lead paint, off-site use only.

Bldg. C-25

Naval Weapons Station

Colts Neck Co: Earle NJ 07722-

Landholding Agency: Navy

Property Number: 77200010015

Status: Unutilized

Comment: 4,448 sq. ft., presence of asbestos/lead paint, off-site use only.

Bldg. C-40

Naval Weapons Station

Colts Neck Co: Earle NJ 07722-

Landholding Agency: Navy

Property Number: 77200010016

Status: Unutilized

Comment: 6,924 sq. ft., presence of asbestos/lead paint, off-site use only.

Bldg. 511

Naval Weapons Station

Colts Neck Co: Earle NJ 07722-

Landholding Agency: Navy

Property Number: 77200010017

Status: Unutilized

Comment: 1,871 sq. ft., presence of asbestos/lead paint, off-site use only.

Bldgs. 553, 554, 555

Naval Weapons Station

Colts Neck Co: Earle NJ 07722-

Landholding Agency: Navy

Property Number: 77200010018

Status: Unutilized

Comment: guard towers, off-site use only.

Bldg. 557

Naval Weapons Station

Colts Neck Co: Earle NJ 07722-

Landholding Agency: Navy

Property Number: 77200010019

Status: Unutilized

Comment: 9,670 sq. ft., presence of asbestos/lead paint, off-site use only.

Pennsylvania

Bldg. 38

Naval Support Activity

Philadelphia Co: PA 19111-5098

Landholding Agency: Navy

Property Number: 77200010020

Status: Unutilized

Comment: 6525 sq. ft., metal butler bldg., needs rehab, presence of asbestos/lead paint, off-site use only.

Rhode Island

Bldg. 1

Old Naval Hospital

One Riggs Road

Newport Co: RI 02841-

Landholding Agency: Navy

Property Number: 77200010022

Status: Unutilized

Comment: 49,189 sq. ft., presence of asbestos/lead paint, needs major repair, NEPA requirements, boiler plant which provides heat and hot water to bldg. will be shut down.

Bldg. K-61

Naval Station

Newport Co: RI 02841-

Landholding Agency: Navy

Property Number: 77200030079

Status: Unutilized

Comment: 32,836 sq. ft., presence of asbestos/lead paint, most recent use—office, off-site use only.

Rhode Island

Bldg. 685

Naval Station

Middletown Co: Newport RI 02842-

Landholding Agency: Navy

Property Number: 77200030080

Status: Unutilized

Comment: 25,090 sq. ft., needs rehab, presence of asbestos/lead paint, most recent use—navy lodge, off-site use only.

Suitable/Unavailable Properties

Buildings (by State)

Puerto Rico

Bldgs. 501 & 502

U.S. Naval Radio Transmitter

Facility

State Road No. 2

Juana Diaz PR 00795-

Landholding Agency: Navy

Property Number: 77199530007

Status: Underutilized

Comment: Reinforced concrete structures, limited access, needs rehab, most recent use—transmitter and power house.

Virginia

Naval Medical Clinic

6500 Hampton Blvd.

Norfolk Co: Norfolk VA 23508-

Landholding Agency: Navy

Property Number: 77199010109

Status: Unutilized

Comment: 3665 sq ft., 1 story, possible asbestos, most recent use-laundry

Land (by State)

Virginia

Naval Base

Norfolk Co: Norfolk VA 23508-

Location:

Northeast corner of base, near Willoughby housing area.

Landholding Agency: Navy

Property Number: 77199010156

Status: Unutilized

Comment: 60 acres; most recent use—sandpit; secured area with alternate access.

Land—CD area

Naval Base Norfolk

Norfolk VA 23511-2797

Landholding Agency: Navy

Property Number: 77199830022

Status: Unutilized

Comment: 2 acres, open space.

Suitable/To Be Excessed

Buildings (by State)

Puerto Rico

Bldg. 561

Former Ramey AFB

Aguadilla PR 00604-

Landholding Agency: Navy

Property Number: 77199630001

Status: Unutilized

Comment: 102666 sq. ft. bldg. on 5.006 acres, most recent use—manufacturing, office and freight distribution center, presence of asbestos.

Unsuitable Properties

Buildings (by State)

California

Bldg. 210

Naval Station, San Diego

San Diego CA 92136-

Landholding Agency: Navy

Property Number: 77199830001

Status: Excess

Reason: Extensive deterioration.

Bldg. 444

Naval Station

San Diego CA 92136-5294

Landholding Agency: Navy

Property Number: 77199830122

Status: Excess

Reason: Extensive deterioration.

Bldg. 209

Naval Station, San Diego

San Diego CA 92136-5065

Landholding Agency: Navy

Property Number: 77199840001

Status: Excess

Reason: Extensive deterioration.

Bldgs. 20106, 20195

Naval Air Weapons Station

China Lake Co: CA 93555-

Landholding Agency: Navy

Property Number: 77199930001

Status: Excess

Reasons: Secured Area, Extensive deterioration.

Bldgs. 40, 62

Naval Air Station, North Island

Imperial Beach Co: CA 91932-

Landholding Agency: Navy

Property Number: 77199930024

Status: Excess

Reason: Extensive deterioration.

Bldg. 5UT4

Marine Corps Recruit Depot

San Diego Co: CA 92140-

Landholding Agency: Navy

Property Number: 77199930081

Status: Unutilized

Reason: Extensive deterioration.

Bldg. 5US4

Marine Corps Recruit Depot

San Diego Co: CA 92140-

Landholding Agency: Navy

Property Number: 77199930082

Status: Unutilized

Reason: Extensive deterioration.

Bldg. 127

Marine Corps Recruit Depot

San Diego Co: CA 92140-

Landholding Agency: Navy

Property Number: 77199930083

Status: Unutilized

Reason: Extensive deterioration.

Bldg. 5A6

Marine Corps Recruit Depot

San Diego Co: CA 92140-

Landholding Agency: Navy

Property Number: 77199930084

Status: Unutilized

Reason: Extensive deterioration.

Bldg. 5A7

Marine Corps Recruit Depot

San Diego Co: CA 92140-

Landholding Agency: Navy

Property Number: 77199930085

Status: Unutilized

Reason: Extensive deterioration.

Bldg. 5A8

Marine Corps Recruit Depot

San Diego Co: CA 92140-

Landholding Agency: Navy

Property Number: 77199930086

Status: Unutilized

Reason: Extensive deterioration.

Bldg. 5A9

Marine Corps Recruit Depot

San Diego Co: CA 92140-

Landholding Agency: Navy

Property Number: 77199930087

Status: Unutilized

Reason: Extensive deterioration.

Bldg. 5B6

Marine Corps Recruit Depot

San Diego Co: CA 92140-

Landholding Agency: Navy

Property Number: 77199930088

Status: Unutilized

Reason: Extensive deterioration.

Bldg. 5B7

Marine Corps Recruit Depot

San Diego Co: CA 92140-

Landholding Agency: Navy

Property Number: 77199930089

Status: Unutilized

Reason: Extensive deterioration.

Bldg. 5B8

Marine Corps Recruit Depot

San Diego Co: CA 92140-

Landholding Agency: Navy

Property Number: 77199930090

Status: Unutilized

Reason: Extensive deterioration.

Bldg. 5B9

Marine Corps Recruit Depot

San Diego Co: CA 92140-

Landholding Agency: Navy

Property Number: 77199930091

Status: Unutilized

Reason: Extensive deterioration.

Bldg. 5C6

Marine Corps Recruit Depot

San Diego Co: CA 92140-

Landholding Agency: Navy

Property Number: 77199930092

Status: Unutilized

Reason: Extensive deterioration.

Bldg. 5C7

Marine Corps Recruit Depot

San Diego Co: CA 92140-

Landholding Agency: Navy

Property Number: 77199930093

Status: Unutilized

Reason: Extensive deterioration.

Bldg. 5C8

Marine Corps Recruit Depot

San Diego Co: CA 92140-

Landholding Agency: Navy

Property Number: 77199930094

Status: Unutilized

Reason: Extensive deterioration.

Bldg. 5C9

Marine Corps Recruit Depot

San Diego Co: CA 92140-

Landholding Agency: Navy

Property Number: 77199930095

Status: Unutilized

Reason: Extensive deterioration.

Bldg. 5D1

Marine Corps Recruit Depot

San Diego Co: CA 92140-

Landholding Agency: Navy

Property Number: 77199930096

Status: Unutilized

Reason: Extensive deterioration.

Bldg. 5D2

Marine Corps Recruit Depot

San Diego Co: CA 92140-

Landholding Agency: Navy

Property Number: 77199930097

Status: Unutilized

Reason: Extensive deterioration.

Bldg. 5D3

Marine Corps Recruit Depot

San Diego Co: CA 92140-

Landholding Agency: Navy

Property Number: 77199930098

Status: Unutilized

Reason: Extensive deterioration.

Bldg. 5D4

Marine Corps Recruit Depot

San Diego Co: CA 92140-

Landholding Agency: Navy

Property Number: 77199930099

Status: Unutilized

Reason: Extensive deterioration.

Bldg. 5D5

Marine Corps Recruit Depot

San Diego Co: CA 92140-

Landholding Agency: Navy

Property Number: 771999300100

Status: Unutilized

Reason: Extensive deterioration.

Bldg. 206

Naval Weapons Station Seal Beach

Seal Beach Co: CA 90740-5000

Landholding Agency: Navy

Property Number: 77199930105

Status: Unutilized

Reason: Extensive deterioration.

Bldg. 432

Naval Weapons Station Seal Beach

Seal Beach Co: CA 90740-5000

Landholding Agency: Navy

Property Number: 77199930106

Status: Unutilized

Reason: Extensive deterioration.

Bldg. 433

Naval Weapons Station Seal Beach

Seal Beach Co: CA 90740-5000

Landholding Agency: Navy

Property Number: 77199930107

Status: Unutilized

Reason: Extensive deterioration.

Bldg. 435

Naval Weapons Station Seal Beach

Seal Beach Co: CA 90740-5000

Landholding Agency: Navy

Property Number: 77199930108

Status: Unutilized

Reason: Extensive deterioration.

Bldg. 456

Naval Weapons Station Seal Beach

Seal Beach Co: CA 90740-5000

Landholding Agency: Navy

Property Number: 77199930109

Status: Unutilized

Reason: Extensive deterioration.

Bldg. 921

Naval Weapons Station Seal

—Beach

Seal Beach Co: CA 90740-5000

Landholding Agency: Navy

Property Number: 77199930110

Status: Unutilized

Reason: Extensive deterioration.

Bldg. 201

Naval Weapons Station

Fallbrook Co: CA 92028-3187

Landholding Agency: Navy

Property Number: 77199940002

Status: Unutilized

Reason: Extensive deterioration.

Bldg. 205

Naval Weapons Station

Fallbrook Co: CA 92028-3187

Landholding Agency: Navy

Property Number: 77199940003

Status: Unutilized

Reason: Extensive deterioration.

Bldg. 227

Naval Weapons Station

Fallbrook Co: CA 92028-3187

Landholding Agency: Navy

Property Number: 77199940004

Status: Unutilized

Reason: Extensive deterioration.

Bldg. 230

Naval Weapons Station

Fallbrook Co: CA 92028-3187

Landholding Agency: Navy

Property Number: 77199940005

Status: Unutilized

Reason: Extensive deterioration.

Bldg. 232

Naval Weapons Station

Fallbrook Co: CA 92028-3187

Landholding Agency: Navy

Property Number: 77199940006

Status: Unutilized

Reason: Extensive deterioration.

Bldg. 337

Naval Weapons Station

Fallbrook Co: CA 92028-3187

Landholding Agency: Navy

Property Number: 77199940007

Status: Unutilized

Reason: Extensive deterioration.

Bldg. 338

Naval Weapons Station

Fallbrook Co: CA 92028-3187

Landholding Agency: Navy

Property Number: 77199940008

Status: Unutilized

Reason: Extensive deterioration.

Bldg. 339

Naval Weapons Station

Fallbrook Co: CA 92028-3187

Landholding Agency: Navy

Property Number: 77199940009

Status: Unutilized

Reason: Extensive deterioration.

Bldg. 349

Naval Weapons Station

Fallbrook Co: CA 92028-3187

Landholding Agency: Navy

Property Number: 77199940010

Status: Unutilized

Reason: Extensive deterioration.

Bldg. 362

Naval Weapons Station

Fallbrook Co: CA 92028-3187

Landholding Agency: Navy

Property Number: 77199940011

Status: Unutilized

Reason: Extensive deterioration.

Bldg. 363

Naval Weapons Station

Fallbrook Co: CA 92028-3187

Landholding Agency: Navy

Property Number: 77199940012

Status: Unutilized

Reason: Extensive deterioration.

Bldg. 410

Naval Weapons Station

Fallbrook Co: CA 92028-3187

Landholding Agency: Navy

Property Number: 77199940013

Status: Unutilized

Reason: Extensive deterioration.

Bldg. 438

Naval Weapons Station

Fallbrook Co: CA 92028-3187

Landholding Agency: Navy

Property Number: 77199940014

Status: Unutilized

Reason: Extensive deterioration.

Bldg. Q100

Naval Amphibious Base

Coronado Co: CA 92118-

Landholding Agency: Navy

Property Number: 77199940067

Status: Excess

Reason: Extensive deterioration.

Bldg. Q102

Naval Amphibious Base

Coronado Co: CA 92118-

Landholding Agency: Navy

Property Number: 77199940068

Status: Excess

Reason: Extensive deterioration.

Bldg. 106

Naval Amphibious Base

Coronado Co: CA 92118-

Landholding Agency: Navy

Property Number: 77199940069

Status: Excess

Reason: Extensive deterioration.

Bldg. 111

Naval Amphibious Base

Coronado Co: CA 92118-

Landholding Agency: Navy

Property Number: 77199940070

Status: Excess

Reason: Extensive deterioration.

Bldg. 112

Naval Amphibious Base

Coronado Co: CA 92118-

Landholding Agency: Navy

Property Number: 77199940071

Status: Excess

Reason: Extensive deterioration.

Bldg. 613

NAS, North Island

Coronado Co: CA 92118-

Landholding Agency: Navy

Property Number: 77199940072

Status: Excess

Reason: Extensive deterioration.

Bldg. 55

Naval Amphibious Base

Imperial Beach Co: CA 92118-

Landholding Agency: Navy

Property Number: 77199940073

Status: Excess

Reason: Extensive deterioration.

Bldg. 154

Naval Air Station

North Island Co: CA 92132-

Landholding Agency: Navy

Property Number: 77200010037

Status: Excess

Reason: Extensive deterioration.

Bldg. OT68

Space & Navy Warfare

Systems Center

San Diego Co: CA 92152-5001

Landholding Agency: Navy

Property Number: 77200010076

Status: Unutilized

Reason: Floodway.

Bldg. 1234

Marine Corps Base

Camp Pendleton Co: CA 92055-

Landholding Agency: Navy

Property Number: 77200010077

Status: Excess

Reason: Extensive deterioration.

Bldg. 1439

Marine Corps Base

Camp Pendleton Co: CA 92055-

Landholding Agency: Navy

Property Number: 77200010078

Status: Excess

Reason: Extensive deterioration.

Bldg. 1443

Marine Corps Base

Camp Pendleton Co: CA 92055-

Landholding Agency: Navy

Property Number: 77200010079

Status: Excess

Reason: Extensive deterioration.

Bldg. 2231

Marine Corps Base

Camp Pendleton CO: CA 92055-

Landholding Agency: Navy

Property Number: 77200010080

Status: Excess

Reason: Extensive deterioration.

Bldg. 2232

Marine Corps Base

Camp Pendleton Co: CA 92055-

Landholding Agency: Navy

Property Number: 77200010081

Status: Excess

Reason: Extensive deterioration.

Bldg. 2582

Marine Corps Base

Camp Pendleton Co: CA 92055-

Landholding Agency: Navy

Property Number: 77200010082

Status: Excess

Reason: Extensive deterioration.

Bldg. 2583

Marine Corps Base

Camp Pendleton Co: CA 92055-

Landholding Agency: Navy

Property Number: 77200010083

Status: Excess

Reason: Extensive deterioration.

Bldg. 21544

Marine Corps Base

Camp Pendleton Co: CA 92055-

Landholding Agency: Navy

Property Number: 77200010084

Status: Excess

Reason: Extensive deterioration.

Bldg. 21549

Marine Corps Base

Camp Pendleton Co: CA 92055-

Landholding Agency: Navy

Property Number: 77200010085

Status: Excess

Reason: Extensive deterioration.

Bldg. 25131

Marine Corps Base

Camp Pendleton Co: CA 92055-

Landholding Agency: Navy

Property Number: 77200010086

Status: Excess

Reason: Extensive deterioration.

Bldg. 32927

Marine Corps Base

Camp Pendleton Co: CA 92055-

Landholding Agency: Navy

Property Number: 77200010087

Status: Excess

Reason: Extensive deterioration.

Bldg. 130167

Marine Corps Base

Camp Pendleton Co: CA 92055-

Landholding Agency: Navy

Property Number: 77200010088

Status: Excess

Reason: Extensive deterioration.

Bldg. 130175

Marine Corps Base

Camp Pendleton Co: CA 92055-

Landholding Agency: Navy

Property Number: 77200010089

Status: Excess

Reason: Extensive deterioration.

Bldg. 201076

Marine Corps Base

Camp Pendleton Co: CA 92055-

Landholding Agency: Navy

Property Number: 77200010090

Status: Excess

Reason: Extensive deterioration.

Bldg. 201487

Marine Corps Base

Camp Pendleton Co: CA 92055-

Landholding Agency: Navy

Property Number: 77200010091

Status: Excess

Reason: Extensive deterioration.

Bldg. 1684

Marine Corps Base

Camp Pendleton Co: CA 92055-

Landholding Agency: Navy

Property Number: 77200010092

Status: Excess

Reason: Extensive deterioration.

Bldg. 16146

Marine Corps Base

Camp Pendleton Co: CA 92055-

Landholding Agency: Navy

Property Number: 77200010093

Status: Excess

Reason: Extensive deterioration.

Bldg. 43332

Marine Corps Base

Camp Pendleton Co: CA 92055-

Landholding Agency: Navy

Property Number: 77200010094

Status: Excess

Reason: Extensive deterioration.

Bldg. 43333

Marine Corps Base

Camp Pendleton Co: CA 92055-

Landholding Agency: Navy

Property Number: 77200010095

Status: Excess

Reason: Extensive deterioration.

Bldg. 43334

Marine Corps Base

Camp Pendleton Co: CA 92055-

Landholding Agency: Navy

Property Number: 77200010096

Status: Excess

Reason: Extensive deterioration.

Bldg. 43335

Marine Corps Base

Camp Pendleton Co: CA 92055-

Landholding Agency: Navy

Property Number: 77200010097

Status: Excess

Reason: Extensive deterioration.

Bldg. 43336

Marine Corps Base

Camp Pendleton Co: CA 92055-

Landholding Agency: Navy

Property Number: 77200010098

Status: Excess

Reason: Extensive deterioration.

Bldg. 43337

Marine Corps Base

Camp Pendleton Co: CA 92055-

Landholding Agency: Navy

Property Number: 77200010099

Status: Excess

Reason: Extensive deterioration.

Bldg. 52651

Marine Corps Base

Camp Pendleton Co: CA 92055-

Landholding Agency: Navy

Property Number: 77200010100

Status: Excess

Reason: Extensive deterioration.

Bldg. 17A

Marine Corps Logistics Base

Barstow Co: San Bernardino CA 92311-

Landholding Agency: Navy

Property Number: 77200020001

Status: Unutilized

Reason: Secured Area, Extensive deterioration.

Bldg. 62327

Marine Corps Base

Camp Pendleton Co: CA 92055-

Landholding Agency: Navy

Property Number: 77200020034

Status: Excess

Reason: Extensive deterioration.

Bldg. 3314

Marine Corps Air Station

Miramar Co: CA 94145-

Landholding Agency: Navy

Property Number: 77200020035

Status: Excess

Reason: Extensive deterioration.

Bldg. 5157, 5158

Construction Battalion

Center

Port Hueneme: CA 93043-4301

Landholding Agency: Navy

Property Number: 77200020045

Status: Unutilized

Reason: Secured Area.

Facility 13181

Camp Pendleton

Camp Pendleton Co: CA 92055-

Landholding Agency: Navy

Property Number: 77200020046

Status: Unutilized

Reasons: Secured Area Extensive deterioration.

Facility 14220

Camp Pendleton

Camp Pendleton Co: CA 92055-

Landholding Agency: Navy

Property Number: 77200020047

Status: Unutilized

Reasons: Secured Area Extensive deterioration.

Facility 24151

Camp Pendleton

Camp Pendleton Co: CA 92055-

Landholding Agency: Navy

Property Number: 77200020048

Status: Unutilized

Reasons: Secured Area Extensive deterioration.

Bldg. 22074

Marine Corps Base

Camp Pendleton Co: CA 92055-

Landholding Agency: Navy

Property Number: 77200020092

Status: Unutilized

Reason: Extensive deterioration.

Bldg. 62324

Marine Corps Base

Camp Pendleton Co: CA 92055-

Landholding Agency: Navy

Property Number: 77200020093

Status: Unutilized

Reason: Extensive deterioration.

Bldg. H-62

Marine Corps Base

Camp Pendleton Co: CA 92055-

Landholding Agency: Navy

Property Number: 77200020094

Status: Unutilized

Reason: Extensive deterioration.

Bldg. 1442

Marine Corps Base

Camp Pendleton Co: CA 92055-

Landholding Agency: Navy

Property Number: 77200020106

Status: Unutilized

Reason: Extensive deterioration.

Bldg. 1651

Marine Corps Base

Camp Pendleton Co: CA 92055-

Landholding Agency: Navy

Property Number: 77200020107

Status: Unutilized

Reason: Extensive deterioration.

Bldg. 13162

Marine Corps Base

Camp Pendleton Co: CA 92055-

Landholding Agency: Navy

Property Number: 77200020108

Status: Unutilized

Reason: Extensive deterioration.

Bldg. 14100

Marine Corps Base

Camp Pendleton Co: CA 92055-

Landholding Agency: Navy

Property Number: 77200020109

Status: Unutilized

Reason: Extensive deterioration.

Bldg. 25131

Marine Corps Base

Camp Pendleton Co: CA 92055-

Landholding Agency: Navy

Property Number: 77200020110

Status: Unutilized

Reason: Extensive deterioration.

Connecticut

DG1-DG8, DG10-DG-27

Dolphin Gardens

Naval Submarine Base New London

Groton Co: New London CT 06349-

Landholding Agency: Navy

Property Number: 77199930025

Status: Unutilized

Reason: Extensive deterioration.

Bldg. 480

Naval Submarine Base

Groton Co: New London CT 06349-

Landholding Agency: Navy

Property Number: 77200010075

Status: Unutilized

Reason: Secured Area.

10 Bldgs./84.62 acres

Naval Weapons Ind. Rsv. Pl.

Bloomfield Co: Hartford CT 06002-0002

Landholding Agency: Navy

Property Number: 77200020096

Status: Unutilized

Reason: Secured Area.

Florida

Bldg. 648

Naval Air Station

Pensacola Co: Escambia FL 32508-

Landholding Agency: Navy

Property Number: 77199920087

Status: Unutilized

Reason: Secured Area.

Bldg. 1882

Naval Air Station

Pensacola Co: Escambia FL 32508-

Landholding Agency: Navy

Property Number: 77199920088

Status: Unutilized

Reason: Secured Area, Extensive deterioration.

Bldg. 3228

Naval Air Station

Pensacola Co: Escambia FL 32508-

Landholding Agency: Navy

Property Number: 77199920089

Status: Unutilized

Reason: Secured Area.

Bldg. 3604

Naval Air Station

Pensacola Co: Escambia FL 32508-

Landholding Agency: Navy

Property Number: 77199920090

Status: Unutilized

Reason: Secured Area.

Bldg. 3605

Naval Air Station

Pensacola Co: Escambia FL 32508-

Landholding Agency: Navy

Property Number: 77199920091

Status: Unutilized

Reason: Secured Area.

Bldg. 3626

Naval Air Station

Pensacola Co: Escambia FL 32508-

Landholding Agency: Navy

Property Number: 77199920092

Status: Unutilized

Reason: Secured Area.

Bldg. 3674

Naval Air Station

Pensacola Co: Escambia FL 32508-

Landholding Agency: Navy

Property Number: 77199920093

Status: Unutilized

Reason: Secured Area.

Bldg. A-146

Boca Chica Annex

Naval Air Station

Key West Co: Monroe FL 33040-

Landholding Agency: Navy

Property Number: 77199930027

Status: Unutilized

Reason: Extensive deterioration.

Bldg. A-232

Boca Chica Annex

Naval Air Station

Key West Co: Monroe FL 33040-

Landholding Agency: Navy

Property Number: 77199930028

Status: Unutilized

Reason: Extensive deterioration.

Bldg. A-4020

Boca Chica Annex

Naval Air Station

Key West Co: Monroe FL 33040-

Landholding Agency: Navy

Property Number: 77199930029

Status: Unutilized

Reason: Extensive deterioration.

Bldg. 3451

Naval Air Station

Pensacola Co: Escambia FL 32508-

Landholding Agency: Navy

Property Number: 77199940066

Status: Unutilized

Reason: Secured Area.

Bldg. 1558

NAS Jacksonville

Jacksonville Co: Duval FL 32212-

Landholding Agency: Navy

Property Number: 77200010001

Status: Unutilized

Reasons: Within 2000 ft. of flammable or explosive material, Secured Area.

Bldg. 592

NAS Jacksonville

Jacksonville Co: Duval FL 32212-

Landholding Agency: Navy

Property Number: 77200010002

Status: Unutilized

Reasons: Secured Area, Extensive deterioration.

Bldg. 610

NAS Jacksonville

Jacksonville Co: Duval FL 32212-

Landholding Agency: Navy

Property Number: 77200010003

Status: Unutilized

Reasons: Secured Area, Extensive deterioration.

Bldg. 7L

NAS Jacksonville

Jacksonville Co: Duval FL 32212-

Landholding Agency: Navy

Property Number: 77200010004

Status: Unutilized

Reasons: Secured Area, Extensive deterioration.

Bldg. 7M

NAS Jacksonville

Jacksonville Co: Duval FL 32212-

Landholding Agency: Navy

Property Number: 77200010005

Status: Unutilized

Reasons: Secured Area, Extensive deterioration.

Bldg. 7N

NAS Jacksonville

Jacksonville Co: Duval FL 32212-

Landholding Agency: Navy

Property Number: 77200010006

Status: Unutilized

Reasons: Secured Area, Extensive deterioration.

Bldg. 70

NAS Jacksonville

Jacksonville Co: Duval FL 32212-

Landholding Agency: Navy

Property Number: 77200010007

Status: Unutilized

Reasons: Secured Area, Extensive deterioration.

Bldg. A-952

Naval Air Station

Boca Chica

Key West Co: Monroe FL 33040-

Landholding Agency: Navy

Property Number: 77200010034

Status: Unutilized

Reason: Extensive deterioration.

Bldg. A-962

Naval Air Station

Boca Chica

Key West Co: Monroe FL 33040-

Landholding Agency: Navy

Property Number: 77200010035

Status: Unutilized

Reason: Extensive deterioration.

Bldg. A-1105

Naval Air Station

Boca Chica

Key West Co: Monroe FL 33040-

Landholding Agency: Navy

Property Number: 77200010036

Status: Unutilized

Reason: Extensive deterioration.

Bldg. 44

Naval Air Station

Pensacola Co: Escambia FL 32508-

Landholding Agency: Navy

Property Number: 77200010038

Status: Unutilized

Reason: Secured Area.

Bldg. 58

Naval Air Station

Pensacola Co: Escambia FL 32508-

Landholding Agency: Navy

Property Number: 77200010039

Status: Unutilized

Reason: Secured Area.

Bldg. 365

Naval Air Station

Pensacola Co: Escambia FL 32508-

Landholding Agency: Navy

Property Number: 77200010040

Status: Unutilized

Reason: Secured Area.

Bldg. 455

Naval Air Station

Pensacola Co: Escambia FL 32508-

Landholding Agency: Navy

Property Number: 77200010041

Status: Unutilized

Reason: Secured Area.

Bldg. 467

Naval Air Station

Pensacola Co: Escambia FL 32508-

Landholding Agency: Navy

Property Number: 77200010042

Status: Unutilized

Reason: Secured Area.

Bldg. 475

Naval Air Station

Pensacola Co: Escambia FL 32508-

Landholding Agency: Navy

Property Number: 77200010043

Status: Unutilized

Reason: Secured Area.

Bldg. 605A

Naval Air Station

Pensacola Co: Escambia FL 43508-

Landholding Agency: Navy

Property Number: 77200010044

Status: Unutilized

Reason: Secured Area.

Bldg. 689

Naval Air Station

Pensacola Co: Escambia FL 32508-

Landholding Agency: Navy

Property Number: 77200010045

Status: Unutilized

Reason: Secured Area.

Bldg. 802A

Naval Air Station

Pensacola Co: Escambia FL 32508-

Landholding Agency: Navy

Property Number: 77200010046

Status: Unutilized

Reason: Secured Area.

Bldg. 835

Naval Air Station

Pensacola Co: Escambia FL 32508-

Landholding Agency: Navy

Property Number: 77200010047

Status: Unutilized

Reason: Secured Area.

Bldg. 859B

Naval Air Station

Pensacola Co: Escambia FL 32508-

Landholding Agency: Navy

Property Number: 77200010048

Status: Unutilized

Reason: Secured Area.

Bldg. 859C

Naval Air Station

Pensacola Co: Escambia FL 32508-

Landholding Agency: Navy

Property Number: 77200010049

Status: Unutilized

Reason: Secured Area.

Bldg. 869

Naval Air Station

Pensacola Co: Escambia FL 32598-

Landholding Agency: Navy

Property Number: 77200010050

Status: Unutilized

Reason: Secured Area.

Bldg. 1713

Naval Air Station

Pensacola Co: Escambia FL 32508-

Landholding Agency: Navy

Property Number: 77200010051

Status: Unutilized

Reason: Secured Area.

Bldg. 2437

Naval Air Station

Pensacola Co: Escambia FL 32508-

Landholding Agency: Navy

Property Number: 77200010052

Status: Unutilized

Reason: Secured Area.

Bldg. 2462

Naval Air Station

Pensacola Co: Escambia FL 32508-

Landholding Agency: Navy

Property Number: 77200010053

Status: Unutilized

Reason: Secured Area.

Bldg. 3446

Naval Air Station

Pensacola Co: Escambia FL 32508-

Landholding Agency: Navy

Property Number: 77200010054

Status: Unutilized

Reason: Secured Area.

Bldg. 3478

Naval Air Station

Pensacola Co: Escambia FL 32508-

Landholding Agency: Navy

Property Number: 77200010055

Status: Unutilized

Reason: Secured Area.

Bldg. 3878

Naval Air Station

Pensacola Co: Escambia FL 32508-

Landholding Agency: Navy

Property Number: 77200010056

Status: Unutilized

Reason: Secured Area.

Bldg. 7H

Naval Air Station

Jacksonville Co: Duval FL 32212-

Landholding Agency: Navy

Property Number: 77200020064

Status: Unutilized

Reason: Secured Area, Extensive deterioration.

Bldg. 7J

Naval Air Station

Jacksonville Co: Duval FL 32212-

Landholding Agency: Navy

Property Number: 77200020065

Status: Unutilized

Reason: Secured Area, Extensive deterioration.

Bldg. 7K

Naval Air Station

Jacksonville Co: Duval FL 32212-

Landholding Agency: Navy

Property Number: 77200020066

Status: Unutilized

Reason: Secured Area, Extensive deterioration.

Bldg. 106

Naval Air Station

Jacksonville Co: Duval FL 32212-

Landholding Agency: Navy

Property Number: 77200020067

Status: Unutilized

Reasons: Secured Area, Extensive deterioration.

Bldg. 135

Naval Air Station

Jacksonville Co: Duval FL 32212-

Landholding Agency: Navy

Property Number: 77200020068

Status: Unutilized

Reasons: Secured Area, Extensive deterioration.

Bldg. 142

Naval Air Station

Jacksonville Co: Duval FL 32212-

Landholding Agency: Navy

Property Number: 77200020069

Status: Unutilized

Reasons: Secured Area, Extensive deterioration.

Bldg. 584

Naval Air Station

Jacksonville Co: Duval FL 32212-

Landholding Agency: Navy

Property Number: 77200020070

Status: Unutilized

Reasons: Secured Area, Extensive deterioration.

Bldg. 610

Naval Air Station

Jacksonville Co: Duval FL 32212-

Landholding Agency: Navy

Property Number: 77200020071

Status: Unutilized

Reasons: Secured Area, Extensive deterioration.

Bldg. 702

Naval Air Station

Jacksonville Co: Duval FL 32212-

Landholding Agency: Navy

Property Number: 77200020072

Status: Unutilized

Reasons: Secured Area, Extensive deterioration.

Bldg. 703

Naval Air Station

Jacksonville Co: Duval FL 32212-

Landholding Agency: Navy

Property Number: 77200020073

Status: Unutilized

Reasons: Secured Area, Extensive deterioration.

Bldg. 725

Naval Air Station

Jacksonville Co: Duval FL 32212-

Landholding Agency: Navy

Property Number: 77200020074

Status: Unutilized

Reasons: Secured Area, Extensive deterioration.

Bldg. 740A

Naval Air Station

Jacksonville Co: Duval FL 32212-

Landholding Agency: Navy

Property Number: 77200020075

Status: Unutilized

Reasons: Secured Area, Extensive deterioration.

Bldg. 54

Naval Station

Mayport Co: Duval FL 32228-

Landholding Agency: Navy

Property Number: 77200020076

Status: Unutilized

Reasons: Secured Area, Extensive deterioration.

Bldg. 211

Naval Station

Mayport Co: Duval FL 32228-

Landholding Agency: Navy

Property Number: 77200020077

Status: Unutilized

Reasons: Secured Area, Extensive deterioration.

Bldg. 62

NAS Jacksonville

Altoona Co: Marion FL 32702-

Landholding Agency: Navy

Property Number: 77200020111

Status: Unutilized

Reasons: Secured Area, Extensive deterioration.

Bldg. 94

NAS Jacksonville

Altoona Co: Marion FL 32702-

Landholding Agency: Navy

Property Number: 77200020112

Status: Unutilized

Reasons: Secured Area, Extensive deterioration.

Georgia

Bldg. 3012

Naval Submarine Base

Kings Bay Co: Camden GA 31547

Landholding Agency: Navy

Property Number: 77199910001

Status: Unutilized

Reason: Extensive deterioration.

Facility 5001

Naval Submarine Base

Kings Bay Co: Camden GA 31547-

Landholding Agency: Navy

Property Number: 77199940016

Status: Unutilized

Reason: Secured Area.

Facility 5002

Naval Submarine Base

Kings Bay Co: Camden GA 31547-

Landholding Agency: Navy

Property Number: 77199940017

Status: Unutilized

Reason: Secured Area.

Facility 5003

Naval Submarine Base

Kings Bay Co: Camden GA 31547-

Landholding Agency: Navy

Property Number: 77199940018

Status: Unutilized

Reason: Secured Area.

Facility 5935

Naval Submarine Base

Kings Bay Co: Camden GA 31547-

Landholding Agency: Navy

Property Number: 77199940019

Status: Unutilized

Reason: Secured Area.

Guam

Structures 312, 1792

COMNAVMARIANAS

Waterfront Annex Co: GU 96540-

Landholding Agency: Navy

Property Number: 77199930002

Status: Excess

Reason: Secured Area.

Structures 2020, 2021

COMNAVMARIANAS

Waterfront Annex Co: GU 96540-

Landholding Agency: Navy

Property Number: 77199930003

Status: Excess

Reason: Secured Area.

Bldg. 3171

COMNAVMARIANAS

Waterfront Annex Co: GU 96540-

Landholding Agency: Navy

Property Number: 77199930004

Status: Excess

Reasons: Secured Area, Extensive deterioration.

Bldg. 264

U.S. Naval Forces

COMNAVMARIANAS

Waterfront Annex Co: GU 96540-0051

Landholding Agency: Navy

Property Number: 77199930048

Status: Unutilized

Reasons: Within 2000 ft. of flammable or explosive material

Secured Area, Extensive deterioration.

Bldg. 4400

U.S. Naval Forces

COMNAVMARIANAS

Waterfront Annex Co: GU 96540-0051

Landholding Agency: Navy

Property Number: 77199930057

Status: Unutilized

Reasons: Secured Area, Extensive deterioration.

Bldg. 4402

U.S. Naval Forces

COMNAVMARIANAS

Waterfront Annex Co: GU 96540-0051

Landholding Agency: Navy

Property Number: 77199930058

Status: Unutilized

Reasons: Secured Area, Extensive deterioration.

Bldg. 4414

U.S. Naval Forces

COMNAVMARIANAS

Waterfront Annex Co: GU 96540-0051

Landholding Agency: Navy

Property Number: 77199930059

Status: Unutilized

Reason: Secured Area, Extensive deterioration.

Bldg. 4425

U.S. Naval Forces

COMNAVMARIANAS

Waterfront Annex Co: GU 96540-0051

Landholding Agency: Navy

Property Number: 77199930060

Status: Unutilized

Reasons: Secured Area, Extensive deterioration.

Bldg. 4426d-4428

U.S. Naval Forces

COMNAVMARIANAS

Waterfront Annex Co: GU 96540-0051

Landholding Agency: Navy

Property Number: 77199930061

Status: Unutilized

Reasons: Secured Area, Extensive deterioration.

Bldg. 26

U.S. Naval Forces, Marianas

Waterfront Annex Co: GU 96540-0051

Landholding Agency: Navy

Property Number: 77200020049

Status: Unutilized

Reason: Secured Area.

Bldg. 264

U.S. Naval Forces, Marianas

Waterfront Annex Co: GU 96540-0051

Landholding Agency: Navy

Property Number: 77200020050

Status: Unutilized

Reasons: Within 2000 ft. of flammable or explosive material

Secured Area, Extensive deterioration.

Bldg. 3112

U.S. Naval Forces, Marianas

Waterfront Annex Co: GU 96540-0051

Landholding Agency: Navy

Property Number: 77200020051

Status: Unutilized

Reason: Secured Area.

Bldg. 3116

U.S. Naval Forces, Marianas

Waterfront Annex Co: GU 96540-0051

Landholding Agency: Navy

Property Number: 77200020052

Status: Unutilized

Reason: Secured Area.

Bldg. 3117

U.S. Naval Forces, Marianas

Waterfront Annex Co: GU 96540-0051

Landholding Agency: Navy

Property Number: 77200020053

Status: Unutilized

Reason: Secured Area.

Bldg. 3118

U.S. Naval Forces, Marianas

Waterfront Annex Co: GU 96540-0051

Landholding Agency: Navy

Property Number: 77200020054

Status: Unutilized

Reason: Secured Area.

Bldg. 3120

U.S. Naval Forces, Marianas

Waterfront Annex Co: GU 96540-0051

Landholding Agency: Navy

Property Number: 77200020055

Status: Unutilized

Reason: Secured Area.

Bldg. 3121

U.S. Naval Forces, Marianas

Waterfront Annex Co: GU 96540-0051

Landholding Agency: Navy

Property Number: 77200020056

Status: Unutilized

Reason: Secured Area.

Bldg. 4400

U.S. Naval Forces, Marianas

Waterfront Annex Co: GU 96540-0051

Landholding Agency: Navy

Property Number: 77200020057

Status: Unutilized

Reasons: Secured Area, Extensive deterioration.

Bldg. 4402

U.S. Naval Forces, Marianas

Waterfront Annex Co: GU 96540-0051

Landholding Agency: Navy

Property Number: 77200020058

Status: Unutilized

Reason: Secured Area.

Bldg. 4414

U.S. Naval Forces, Marianas

Waterfront Annex Co: GU 96540-0051

Landholding Agency: Navy

Property Number: 77200020059

Status: Unutilized

Reason: Secured Area.

Bldg. 4425

U.S. Naval Forces, Marianas

Waterfront Annex Co: GU 96540-0051

Landholding Agency: Navy

Property Number: 77200020060

Status: Unutilized

Reason: Secured Area.

Bldgs. 4426, 4427, 4428

U.S. Naval Forces, Marianas

Waterfront Annex Co: GU 96540-0051

Landholding Agency: Navy

Property Number: 77200020061

Status: Unutilized

Reason: Secured Area.

Hawaii

Bldg. 126, Naval Magazine

Waikele Branch

Lualualei Co: Oahu HI 96792-

Landholding Agency: Navy

Property Number: 77199230012

Status: Unutilized

Reasons: Within 2000 ft. of flammable or explosive material, Extensive Deterioration, Secured Area.

Bldg. Q75, Naval Magazine

Lualualei Branch

Lualualei Co: Oahu HI 96792-

Landholding Agency: Navy

Property Number: 77199230013

Status: Unutilized

Reasons: Extensive Deterioration, Secured Area.

Bldg. 7, Naval Magazine

Lualualei Branch

Lualualei Co: Oahu HI 96792-

Landholding Agency: Navy

Property Number: 77199230014

Status: Unutilized

Reasons: Extensive Deterioration, Secured Area.

Bldg. 6, Pearl Harbor

Richardson Recreation Area

Honolulu Co: Honolulu HI 96860-

Landholding Agency: Navy

Property Number: 77199410003

Status: Unutilized

Reason: Extensive deterioration.

Bldg. 10, Pearl Harbor

Richardson Recreational Area

Honolulu Co: Honolulu HI 96860-

Landholding Agency: Navy

Property Number: 77199410004

Status: Unutilized

Reason: Extensive deterioration.

Bldg. 9

Navy Public Works Center

Kolekole Road

Lualualei Co: Honolulu HI 96782-

Landholding Agency: Navy

Property Number: 77199530009

Status: Excess

Reasons: Within 2000 ft. of flammable or explosive material

Secured Area.

Bldg. X5

Nanumea Road

Pearl Harbor Co: Honolulu HI 96782-

Landholding Agency: Navy

Property Number: 77199530010

Status: Excess

Reason: Secured Area.

Bldg. SX30

Nanumea Road

Pearl Harbor Co: Honolulu HI 96860-

Landholding Agency: Navy

Property Number: 77199530011

Status: Excess

Reason: Secured Area.

Bldg. 98

Pearl Harbor Naval Shipyard

Pearl Harbor Co: Honolulu HI 96860-

Landholding Agency: Navy

Property Number: 77199620032

Status: Excess

Reason: Extensive deterioration.

Bldg. Q13

Naval Station, Ford Island

Pearl Harbor Co: Honolulu HI 96860-

Landholding Agency: Navy

Property Number: 77199640035

Status: Unutilized

Reason: Extensive deterioration.

Bldg. Q14

Naval Station, Ford Island

Pearl Harbor Co: Honolulu HI 96860-

Landholding Agency: Navy

Property Number: 77199640036

Status: Unutilized

Reason: Extensive deterioration.

Bldg. 40

Naval Magazine Lualualei

Co: Oahu HI 96792-4301

Landholding Agency: Navy

Property Number: 77199830028

Status: Unutilized

Reason: Extensive deterioration.

Bldg. 50

Naval Magazine Lualualei

Co: Oahu HI 96792-4301

Landholding Agency: Navy

Property Number: 77199830029

Status: Unutilized

Reason: Extensive deterioration.

Bldg. Q76

Naval Magazine Lualualei

Co: Oahu HI 96792-4301

Landholding Agency: Navy

Property Number: 77199830030

Status: Unutilized

Reason: Extensive deterioration.

Bldg. Q334

Naval Magazine Lualualei

Co: Oahu HI 96792-4301

Landholding Agency: Navy

Property Number: 77199830031

Status: Unutilized

Reason: Extensive deterioration.

Bldg. S380

Naval Magazine Lualualei

Co: Oahu HI 96792-4301

Landholding Agency: Navy

Property Number: 77199830032

Status: Unutilized

Reason: Extensive deterioration.

Bldg. S381

Naval Magazine Lualualei

Co: Oahu HI 96792-4301

Landholding Agency: Navy

Property Number: 77199830033

Status: Unutilized

Reason: Extensive deterioration.

Bldg. Q410

Naval Magazine Lualualei

Co: Oahu HI 96792-4301

Landholding Agency: Navy

Property Number: 77199830034

Status: Unutilized

Reason: Extensive deterioration.

Bldg. Q422

Naval Magazine Lualualei

Co: Oahu HI 96792-4301

Landholding Agency: Navy

Property Number: 77199830035

Status: Unutilized

Reason: Extensive deterioration.

Bldg. 429

Naval Magazine Lualualei

Co: Oahu HI 96792-4301

Landholding Agency: Navy

Property Number: 77199830036

Status: Unutilized

Reason: Extensive deterioration.

Bldg. 431

Naval Magazine Lualualei

Co: Oahu HI 96792-4301

Landholding Agency: Navy

Property Number: 77199830037

Status: Unutilized

Reason: Extensive deterioration.

Bldg. 447

Naval Magazine Lualualei

Co: Oahu HI 96792-4301

Landholding Agency: Navy

Property Number: 77199830038

Status: Unutilized

Reason: Extensive deterioration.

Facility S-721

Naval Station

Pearl Harbor Co: Honolulu HI 96860-

Landholding Agency: Navy

Property Number: 77199840042

Status: Excess

Reason: Secured Area.

Facility S-897

Naval Station

Pearl Harbor Co: Honolulu HI 96860-

Landholding Agency: Navy

Property Number: 77199840043

Status: Excess

Reason: Secured Area.

Facility S-937

Naval Station

Pearl Harbor Co: Honolulu HI 96860-

Landholding Agency: Navy

Property Number: 77199840044

Status: Excess

Reason: Secured Area.

Facility 19

Naval Station

Pearl Harbor Co: Honolulu HI 96860-

Landholding Agency: Navy

Property Number: 77199840045

Status: Excess

Reason: Secured Area.

Facility 63

Naval Computer & Telecomm. Station

Wahiawa Co: HI 96786-

Landholding Agency: Navy

Property Number: 77199920013

Status: Excess

Reason: Extensive deterioration.

Facility SX30

Navy Public Works Center

Pearl Harbor Co: Honolulu HI 96860-

Landholding Agency: Navy

Property Number: 77199920027

Status: Excess

Reasons: Secured Area, Extensive deterioration.

Coral Rose Navy Housing

Former Naval Air Station

Kapolei Co: HI 96707-

Landholding Agency: Navy

Property Number: 77200020097

Status: Unutilized

Reason: Extensive deterioration.

Illinois

Bldg. 415

Naval Training Center

201 N. Decatur Ave.

Great Lakes IL

Landholding Agency: Navy

Property Number: 77199840023

Status: Unutilized

Reason: Secured Area.

Bldg. 1015

Naval Training Center

201 N. Decatur Ave.

Great Lakes IL

Landholding Agency: Navy

Property Number: 77199840024

Status: Unutilized

Reason: Secured Area.

Bldg. 1016

Naval Training Center

201 N. Decatur Ave.

Great Lakes IL

Landholding Agency: Navy

Property Number: 77199840025

Status: Unutilized

Reason: Secured Area.

Bldg. 910

Naval Training Center

Great Lakes Co: IL 60088-5000

Landholding Agency: Navy

Property Number: 77199920055

Status: Unutilized

Reason: Secured Area.

Bldg. 800

Naval Training Center

Great Lakes Co: IL 60088-5000

Landholding Agency: Navy

Property Number: 77199920056

Status: Unutilized

Reason: Secured Area.

Bldg. 1000

Naval Training Center

Great Lakes Co: IL 60088-5000

Landholding Agency: Navy

Property Number: 77199920057

Status: Unutilized

Reason: Secured Area.

Bldg. 1200

Naval Training Center

Great Lakes Co: IL 60088-5000

Landholding Agency: Navy

Property Number: 77199920058

Status: Unutilized

Reason: Secured Area.

Bldg. 1400

Naval Training Center

Great Lakes Co: IL 60088-5000

Landholding Agency: Navy

Property Number: 77199920059

Status: Unutilized

Reason: Secured Area.

Bldg. 1600

Naval Training Center

Great Lakes Co: IL 60088-5000

Landholding Agency: Navy

Property Number: 77199920060

Status: Unutilized

Reason: Secured Area.

Bldg. 2600

Naval Training Center

Great Lakes Co: IL 60088-5000

Landholding Agency: Navy

Property Number: 77199920061

Status: Unutilized

Reason: Secured Area.

Indiana

Bldg. 3

Naval Surface Warfare

Naval Investigation Ofc.

Crane Co: Lawrence IN 47522-

Landholding Agency: Navy

Property Number: 77200010057

Status: Unutilized

Reasons: Within 2000 ft. of flammable or explosive material, Secured Area

3 Bldgs.

Naval Surface Warfare

157, 166, 171

Crane Co: Lawrence IN 47522-

Landholding Agency: Navy

Property Number: 77200010058

Status: Unutilized

Reasons: Within 2000 ft. of flammable or explosive material, Secured Area

3 Bldgs.

Naval Surface Warfare

#22, 2792, 2794

Crane Co: Lawrence IN 47522-

Landholding Agency: Navy

Property Number: 77200010059

Status: Unutilized

Reasons: Within 2000 ft. of flammable or explosive material, Secured Area.

3 Bldgs.

Naval Surface Warfare

#158, 167, 172

Crane Co: Lawrence IN 47522-

Landholding Agency: Navy

Property Number: 77200010060

Status: Unutilized

Reasons: Within 2000 ft. of flammable or explosive material, Secured Area.

Bldgs. 162, 163

Naval Surface Warfare

Crane Co: Lawrence IN 47522-

Landholding Agency: Navy

Property Number: 77200010061

Status: Unutilized

Reasons: Within 2000 ft. of flammable or explosive material, Secured Area.

3 Bldgs. 169D, 169E

Naval Surface Warfare

Crane Co: Lawrence IN 47522-

Landholding Agency: Navy

Property Number: 77200010062

Status: Unutilized

Reasons: Within 2000 ft. of flammable or explosive material, Secured Area.

4 Bldgs.

Naval Surface Warfare

#173, 2171, 2172, 2179

Crane Co: Lawrence IN 47522-

Landholding Agency: Navy

Property Number: 77200010063

Status: Unutilized

Reasons: Within 2000 ft. of flammable or explosive material, Secured Area.

5 Bldgs.

Naval Surface Warfare

2174, 2175, 2176, 2193, 2784

Crane Co: Lawrence IN 47522-

Landholding Agency: Navy

Property Number: 77200010064

Status: Unutilized

Reasons: Within 2000 ft. of flammable or explosive material, Secured Area.

Bldgs. 2500, 2501

Naval Surface Warfare

Crane Co: Lawrence IN 47522-

Landholding Agency: Navy

Property Number: 77200010065

Status: Unutilized

Reasons: Within 2000 ft. of flammable or explosive material, Secured Area.

3 Bldgs.

Naval Surface Warfare

#2502, 2503, 2715

Crane Co: Lawrence IN 47522-

Landholding Agency: Navy

Property Number: 77200010066

Status: Unutilized

Reasons: Within 2000 ft. of flammable or explosive material, Secured Area.

10 Bldgs.

Naval Surface Warfare

#2803, 2855-2863

Crane Co: Lawrence IN 47522-

Landholding Agency: Navy

Property Number: 77200010067

Status: Unutilized

Reasons: Within 2000 ft. of flammable or explosive material, Secured Area.

Bldgs. 2905, 3074

Naval Surface Warfare

Crane Co: Lawrence IN 47522-

Landholding Agency: Navy

Property Number: 77200010068

Status: Unutilized

Reasons: Within 2000 ft. of flammable or explosive material, Secured Area.

Maine

Aircraft Hangar #2

Naval Air Station

Brunswick Co: Cumberland ME 04011-

Landholding Agency: Navy

Property Number: 77199810015

Status: Excess

Reason: Extensive deterioration.

Bldg. 13

Naval Air Station

Brunswick Co: Cumberland ME 04011-

Landholding Agency: Navy

Property Number: 77199840005

Status: Excess

Reason: Extensive deterioration.

Bldg. 15

Naval Air Station

Brunswick Co: Cumberland ME 04011-

Landholding Agency: Navy

Property Number: 77199840006

Status: Excess

Reason: Extensive deterioration.

Bldg. 16

Naval Air Station

Brunswick Co: Cumberland ME 04011-

Landholding Agency: Navy

Property Number: 77199840007

Status: Excess

Reason: Extensive deterioration.

Bldg. 90

Naval Security Group Activity

Winter Harbor Co: ME 00000-

Landholding Agency: Navy

Property Number: 77200020098

Status: Excess

Reason: Extensive deterioration.

Maryland

15 Bldgs.

Naval Air Warfare Center

Patuxent River Co: St. Mary's MD 20670-5304

Landholding Agency: Navy

Property Number: 77199730062

Status: Unutilized

Reason: Extensive deterioration.

Bldg. 163

Naval Surface Warfare Center

Carderock Division

West Bethesda Co: Montgomery MD 20817-5700

Landholding Agency: Navy

Property Number: 77200010033

Status: Unutilized

Reason: Extensive deterioration.

Mississippi

Bldg. 78

Naval Construction Battalion Center

Gulfport Co: Harrison MS 39501-5001

Landholding Agency: Navy

Property Number: 77199830047

Status: Unutilized

Reasons: Secured Area, Extensive deterioration.

Bldg. 113

Naval Construction Battalion Center

Gulfport Co: Harrison MS 39501-5001

Landholding Agency: Navy

Property Number: 77199830048

Status: Unutilized

Reasons: Secured Area, Extensive deterioration.

Bldg. 147

Naval Construction Battalion Center

Gulfport Co: Harrison MS 39501-5001

Landholding Agency: Navy

Property Number: 77199830049

Status: Unutilized

Reasons: Secured Area, Extensive deterioration.

Bldg. 187

Naval Construction Battalion Center

Gulfport Co: Harrison MS 39501-5001

Landholding Agency: Navy

Property Number: 77199830050

Status: Unutilized

Reasons: Secured Area, Extensive deterioration.

Bldg. 7

Construction Battalion Center

Gulfport Co: Harrison MS 39501-

Landholding Agency: Navy

Property Number: 77199930010

Status: Unutilized

Reasons: Secured Area, Extensive deterioration.

Bldg. 75

Construction Battalion Center

Gulfport Co: Harrison MS 39501-

Landholding Agency: Navy

Property Number: 77199930011

Status: Unutilized

Reasons: Secured Area, Extensive deterioration.

Bldg. 179

Construction Battalion Center

Gulfport Co: Harrison MS 39501-

Landholding Agency: Navy

Property Number: 77199930012

Status: Unutilized

Reasons: Secured Area, Extensive deterioration.

Structure 262

Construction Battalion Center

Gulfport Co: Harrison MS 39501-

Landholding Agency: Navy

Property Number: 77199930013

Status: Unutilized

Reason: Secured Area.

Bldg. 279

Construction Battalion Center

Gulfport Co: Harrison MS 39501-

Landholding Agency: Navy

Property Number: 77199930014

Status: Unutilized

Reasons: Secured Area, Extensive deterioration.

Bldg. 326

Construction Battalion Center

Gulfport Co: Harrison MS 39501-

Landholding Agency: Navy

Property Number: 77199930015

Status: Unutilized

Reasons: Secured Area, Extensive deterioration.

Bldg. 412

Construction Battalion Center

Gulfport Co: Harrison MS 39501-

Landholding Agency: Navy

Property Number: 77199930016

Status: Unutilized

Reasons: Secured Area, Extensive deterioration.

Bldg. 49

CBC Gulfport

Gulfport Co: Harrison MS 39501-

Landholding Agency: Navy

Property Number: 77200010024

Status: Unutilized

Reasons: Secured Area, Extensive deterioration.

Bldg. 130

CBC Gulfport

Gulfport Co: Harrison MS 39501-

Landholding Agency: Navy

Property Number: 77200010025

Status: Unutilized

Reasons: Secured Area, Extensive deterioration.

Bldg. 368

CBC Gulfport

Gulfport Co: Harrison MS 39501-

Landholding Agency: Navy

Property Number: 77200010026

Status: Unutilized

Reasons: Secured Area, Extensive deterioration.

Bldg. 390

CBC Gulfport

Gulfport Co: Harrison MS 39501-

Landholding Agency: Navy

Property Number: 77200010027

Status: Unutilized

Reasons: Secured Area, Extensive deterioration.

Bldg. 43

Construction Battalion Center

Gulfport Co: Harrison MS 39501-

Landholding Agency: Navy

Property Number: 77200030076

Status: Unutilized

Reasons: Secured Area, Extensive deterioration.

Bldg. 44

Construction Battalion Center

Gulfport Co: Harrison MS 39501-

Landholding Agency: Navy

Property Number: 77200030077

Status: Unutilized

Reasons: Secured Area, Extensive deterioration.

Bldg. 164

Construction Battalion Center

Gulfport Co: Harrison MS 39501-

Landholding Agency: Navy

Property Number: 77200030078

Status: Unutilized

Reasons: Secured Area, Extensive deterioration.

New Hampshire

Bldg. 89

Portsmouth Naval Shipyard

Portsmouth NH 03804-5000

Landholding Agency: Navy

Property Number: 77199830086

Status: Unutilized

Reason: Secured Area.

Bldg. 99

Portsmouth Naval Shipyard

Portsmouth NH 03804-5000

Landholding Agency: Navy

Property Number: 77199830088

Status: Unutilized

Reason: Secured Area.

Bldg. 115

Portsmouth Naval Shipyard

Portsmouth NH 03804-5000

Landholding Agency: Navy

Property Number: 77199830089

Status: Unutilized

Reason: Secured Area.

Bldg. 178

Portsmouth Naval Shipyard

Portsmouth NH 03804-5000

Landholding Agency: Navy

Property Number: 77199830090

Status: Unutilized

Reason: Secured Area.

Bldg. 298

Portsmouth Naval Shipyard

Portsmouth NH 03804-5000

Landholding Agency: Navy

Property Number: 77199830091

Status: Unutilized

Reasons: Within 2000 ft. of flammable or explosive material, Secured Area.

Bldg. H-21

Portsmouth Naval Shipyard

Portsmouth NH 03804-5000

Landholding Agency: Navy

Property Number: 77199830092

Status: Unutilized

Reasons: Within 2000 ft. of flammable or explosive material, Secured Area.

Dry Dock 1

Portsmouth Naval Shipyard

Portsmouth NH 03804-5000

Landholding Agency: Navy

Property Number: 77199840012

Status: Underutilized

Reasons: Secured Area.

Dry Dock 3

Portsmouth Naval Shipyard

Portsmouth NH 03804-5000

Landholding Agency: Navy

Property Number: 77199840013

Status: Underutilized

Reason: Secured Area.

Berth 2

Portsmouth Naval Shipyard

Portsmouth NH 03804-5000

Landholding Agency: Navy

Property Number: 77199840014

Status: Underutilized

Reason: Secured Area.

Berth 11

Portsmouth Naval Shipyard

Portsmouth NH 03804-5000

Landholding Agency: Navy

Property Number: 77199840015

Status: Underutilized

Reason: Secured Area.

Parcel #1

Portsmouth Naval Shipyard

Portsmouth Co: NH 03804-5000

Landholding Agency: Navy

Property Number: 77199910002

Status: Underutilized

Reasons: Within 2000 ft. of flammable or explosive material, Secured Area.

Parcel #2

Portsmouth Naval Shipyard

Portsmouth Co: NH 03804-5000

Landholding Agency: Navy

Property Number: 77199910003

Status: Underutilized

Reasons: Within 2000 ft. of flammable or explosive material, Secured Area.

Parcel #3

Portsmouth Naval Shipyard

Portsmouth Co: NH 03804-5000

Landholding Agency: Navy

Property Number: 77199910004

Status: Underutilized

Reasons: Within 2000 ft. of flammable or explosive material, Extensive deterioration.

Bldg. 55

Portsmouth Naval Shipyard

Portsmouth Co: NH 03804-5000

Landholding Agency: Navy

Property Number: 77199940020

Status: Unutilized

Reason: Secured Area.

Bldg. 150

Portsmouth Naval Shipyard

Portsmouth Co: NH 03804-5000

Landholding Agency: Navy

Property Number: 77199940021

Status: Unutilized

Reason: Secured Area.

New Jersey

Bldg. 188

Naval Air Engineering Station

Lakehurst Co: Ocean NJ 08733-5000

Landholding Agency: Navy

Property Number: 77199830065

Status: Unutilized

Reason: Extensive deterioration.

Bldg. 473

Naval Air Engineering Station

Lakehurst Co: Ocean NJ 08733-5000

Landholding Agency: Navy

Property Number: 77199920024

Status: Unutilized

Reason: Extensive deterioration.

Bldg. 474

Naval Air Engineering Station

Lakehurst Co: Ocean NJ 08733-5000

Landholding Agency: Navy

Property Number: 77199920025

Status: Unutilized

Reason: Extensive deterioration.

Bldgs. 220, 234, 236

Naval Air Engineering Station

Lakehurst Co: Ocean NJ 08733-5000

Landholding Agency: Navy

Property Number: 77199930017

Status: Unutilized

Reason: Extensive deterioration.

28 Sheds

Naval Weapons Station

Colts Neck Co: Earle NJ 07722-

Landholding Agency: Navy

Property Number: 77199940026

Status: Unutilized

Reason: Extensive deterioration.

Bldg. FA-1

Naval Weapons Station

Colts Neck Co: Earle NJ 07722-

Landholding Agency: Navy

Property Number: 77200010008

Status: Unutilized

Reason: Extensive deterioration.

Bldg. GB-1

Naval Weapons Station

Colts Neck Co: Earle NJ 07722-

Landholding Agency: Navy

Property Number: 77200010009

Status: Unutilized

Reason: Extensive deterioration.

Bldg. R-18

Naval Weapons Station

Colts Neck Co: Earle NJ 07722-

Landholding Agency: Navy

Property Number: 77200010010

Status: Unutilized

Reason: Extensive deterioration.

Bldg. S-62

Naval Weapons Station

Colts Neck Co: Earle NJ 07722-

Landholding Agency: Navy

Property Number: 77200010011

Status: Unutilized

Reason: Extensive deterioration.

Bldg. S-412

Naval Weapons Station

Colts Neck Co: Earle NJ 07722-

Landholding Agency: Navy

Property Number: 77200010012

Status: Unutilized

Reason: Extensive deterioration.

Bldg. S-457

Naval Weapons Station

Colts Neck Co: Earle NJ 07722-

Landholding Agency: Navy

Property Number: 77200010013

Status: Unutilized

Reason: Extensive deterioration.

North Carolina

Bldg. 96

Marine Corps Air Station, Cherry Point

Havelock Co: Craven NC 28533-

Landholding Agency: Navy

Property Number: 77199820111

Status: Unutilized

Reasons: Secured Area, Extensive deterioration.

Bldg. 97

Marine Corps Air Station, Cherry Point

Havelock Co: Craven NC 28533-

Landholding Agency: Navy

Property Number: 77199820112

Status: Unutilized

Reasons: Secured Area, Extensive deterioration.

Bldg. 169

Marine Corps Air Station, Cherry Point

Havelock Co: Craven NC 28533-

Landholding Agency: Navy

Property Number: 77199820113

Status: Unutilized

Reasons: Secured Area, Extensive deterioration.

Bldg. 196

Marine Corps Air Station, Cherry Point

Havelock Co: Craven NC 28533-

Landholding Agency: Navy

Property Number: 77199820114

Status: Unutilized

Reasons: Secured Area, Extensive deterioration.

Bldg. 477

Marine Corps Air Station, Cherry Point

Havelock Co: Craven NC 28533-

Landholding Agency: Navy

Property Number: 77199820115

Status: Unutilized

Reasons: Within 2000 ft. of flammable or explosive material Secured Area, Extensive deterioration.

Bldg. 3422

Marine Corps Air Station, Cherry Point

Havelock Co: Craven NC 28533-

Landholding Agency: Navy

Property Number: 77199820116

Status: Unutilized

Reasons: Secured Area, Extensive deterioration.

Bldg. TC-849

Camp Lejeune

Camp Lejeune Co: Onslow NC 28542-0004

Landholding Agency: Navy

Property Number: 77199920062

Status: Unutilized

Reasons: Secured Area, Extensive deterioration.

Bldg. TC-852

Camp Lejeune

Camp Lejeune Co: Onslow NC 28542-0004

Landholding Agency: Navy

Property Number: 77199920063

Status: Unutilized

Reasons: Secured Area, Extensive deterioration.

Bldg. 2159

Marine Corps Air Station

Cherry Point

Havelock Co: Craven NC 28532-

Landholding Agency: Navy

Property Number: 77199920146

Status: Excess

Reasons: Secured Area, Extensive deterioration.

Structure 3758

Marine Corps Air Station

Cherry Point

Havelock Co: Craven NC 28532-

Landholding Agency: Navy

Property Number: 77199920147

Status: Excess

Reasons: Secured Area, Extensive deterioration.

Bldg. 8027

Marine Corps Air Station

Cherry Point

Bogue Co: NC 28584-

Landholding Agency: Navy

Property Number: 77199930043

Status: Excess

Reasons: Secured Area, Extensive deterioration.

Bldg. 8028

Marine Corps Air Station

Cherry Point

Bogue Co: NC 28584-

Landholding Agency: Navy

Property Number: 77199930044

Status: Excess

Reasons: Secured Area, Extensive deterioration.

Bldg. 1649

Marine Corps Air Station

Cherry Point

Havelock Co: Craven NC 28533-

Landholding Agency: Navy

Property Number: 77199940022

Status: Excess

Reasons: Secured Area, Extensive deterioration.

Bldg. TC-817

Camp Lejeune

Camp Lejeune Co: Onslow NC 28542-0004

Landholding Agency: Navy

Property Number: 77200010101

Status: Excess

Reason: Extensive deterioration.

Bldg. BA114

Marine Corps Base

Camp Lejeune Co: Onslow NC 28542-0004

Landholding Agency: Navy

Property Number: 77200020003

Status: Unutilized

Reason: Extensive deterioration.

Bldg. H16

Marine Corps Base

Camp Lejeune Co: Onslow NC 28542-0004

Landholding Agency: Navy

Property Number: 77200020004

Status: Unutilized

Reason: Extensive deterioration.

Bldg. TC816

Marine Corps Base

Camp Lejeune Co: Onslow NC 28542-0004

Landholding Agency: Navy

Property Number: 77200020005

Status: Unutilized

Reason: Extensive deterioration.

Bldg. TC818

Marine Corps Base

Camp Lejeune Co: Onslow NC 28542-0004

Landholding Agency: Navy

Property Number: 77200020006

Status: Unutilized

Reason: Extensive deterioration.

Bldg. SM145

Marine Corps Base

Camp Lejeune Co: Onslow NC 28542-0004

Landholding Agency: Navy

Property Number: 77200020007

Status: Unutilized

Reason: Extensive deterioration.

Bldg. BA113

Marine Corps Base

Camp Lejeune Co: Onslow NC 28542-0004

Landholding Agency: Navy

Property Number: 77200020008

Status: Unutilized

Reason: Extensive deterioration.

Bldg. 2067

Marine Corps Air Station

Cherry Point

Havelock Co: Craven NC 28533-

Landholding Agency: Navy

Property Number: 77200020036

Status: Excess

Reasons: Secured Area, Extensive deterioration.

Bldg. 3146

Marine Corps Air Station

Cherry Point

Havelock Co: Craven NC 28533-

Landholding Agency: Navy

Property Number: 77200020037

Status: Excess

Reasons: Secured Area, Extensive deterioration.

Pennsylvania

Bldg. 524

Naval Systems Engineering Station

Philadelphia PA 19112-

Landholding Agency: Navy

Property Number: 77199830023

Status: Unutilized

Reason: Extensive deterioration.

Bldg. 152

Naval Air Station Willow Grove

Willow Grove Co: Montgomery PA 19113-

Landholding Agency: Navy

Property Number: 77199930018

Status: Excess

Reason: Extensive deterioration.

Bldg. 185

Naval Air Station Willow Grove

Willow Grove Co: Montgomery PA 19113-

Landholding Agency: Navy

Property Number: 77199930019

Status: Excess

Reason: Extensive deterioration.

Bldg. 603

Naval Support Station

Mechanicsburg Co: Cumberland PA 17055-0788

Landholding Agency: Navy

Property Number: 77199940015

Status: Unutilized

Reason: Extensive deterioration.

Facility 22

Naval Support Station

Philadelphia Co: PA 19111-5098

Landholding Agency: Navy

Property Number: 77199940060

Status: Excess

Reason: Extensive deterioration.

Bldg. 85

Naval Support Activity

Philadelphia Co: PA 19111-5098

Landholding Agency: Navy

Property Number: 77200010021

Status: Unutilized

Reason: Extensive deterioration.

Puerto Rico

Bldg. 433

Naval Station Roosevelt Roads

Ceiba PR 00735-

Landholding Agency: Navy

Property Number: 77199830066

Status: Unutilized

Reason: Extensive deterioration.

Bldg. 434

Naval Station Roosevelt Roads

Ceiba PR 00735-

Landholding Agency: Navy

Property Number: 77199830067

Status: Unutilized

Reason: Extensive deterioration.

Bldg. 464

Naval Station Roosevelt Roads

Ceiba PR 00735-

Landholding Agency: Navy

Property Number: 77199830068

Status: Unutilized

Reason: Extensive deterioration.

Bldg. 762

Naval Station Roosevelt Roads

Ceiba PR 00735-

Landholding Agency: Navy

Property Number: 77199830069

Status: Unutilized

Reason: Extensive deterioration.

Bldg. 763

Naval Station Roosevelt Roads

Ceiba PR 00735-

Landholding Agency: Navy

Property Number: 77199830070

Status: Unutilized

Reason: Extensive deterioration.

Bldg. 1927

Naval Station Roosevelt Roads

Ceiba PR 00735-

Landholding Agency: Navy

Property Number: 77199830071

Status: Unutilized

Reason: Extensive deterioration.

Bldg. 175

Naval Station Roosevelt Roads

Ceiba PR 00735-

Landholding Agency: Navy

Property Number: 77199830072

Status: Unutilized

Reason: Extensive deterioration.

Former No. 2091

Naval Station Roosevelt Roads

Ceiba PR 00735-

Landholding Agency: Navy

Property Number: 77199830073

Status: Unutilized

Reason: Extensive deterioration.

Bldg. 261/1692

Naval Station Roosevelt Roads

Ceiba PR 00735-

Landholding Agency: Navy

Property Number: 77199830074

Status: Unutilized

Reason: Extensive deterioration.

B-38

Naval Station Roosevelt Roads

Ceiba PR 00735-

Landholding Agency: Navy

Property Number: 77199830075

Status: Unutilized

Reason: Extensive deterioration.

Bldg. 781

Naval Base Roosevelt Roads

Ceiba Co: PR 00735-

Landholding Agency: Navy

Property Number: 77199910006

Status: Unutilized

Reason: Extensive deterioration.

Bldg. 1740

Naval Base Roosevelt Roads

Ceiba Co: PR 00735-

Landholding Agency: Navy

Property Number: 77199910007

Status: Unutilized

Reason: Extensive deterioration.

Bldg. 1933

Naval Base Roosevelt Roads

Ceiba Co: PR 00735-

Landholding Agency: Navy

Property Number: 77199910008

Status: Unutilized

Reason: Extensive deterioration.

Bldg. 1934

Naval Base Roosevelt Roads

Ceiba Co: PR 00735-

Landholding Agency: Navy

Property Number: 77199910009

Status: Unutilized

Reason: Extensive deterioration.

Bldg. 1976

Naval Base Roosevelt Roads

Ceiba Co: PR 00735-

Landholding Agency: Navy

Property Number: 77199910010

Status: Unutilized

Reason: Extensive deterioration.

Bldg. 2001

Naval Base Roosevelt Roads

Ceiba Co: PR 00735-

Landholding Agency: Navy

Property Number: 77199910011

Status: Unutilized

Reason: Extensive deterioration.

4 Bldgs.

STOP 7½ Compound, Naval Reservation

San Juan Co: PR 34051-

Location: 440, 441, 442, 443

Landholding Agency: Navy

Property Number: 77199920120

Status: Underutilized

Reason: Secured Area.

Bldg. 444

STOP 7½ Compound, Naval Reservation

San Juan Co: PR 34051-

Landholding Agency: Navy

Property Number: 77199920121

Status: Underutilized

Reason: Secured Area.

Bldgs. 445-447

STOP 7½ Compound, Naval Reservation

San Juan Co: PR 34051-

Landholding Agency: Navy

Property Number: 77199920122

Status: Underutilized

Reason: Secured Area.

6 Bldgs.

STOP 7½ Compound, Naval Reservation

San Juan Co: PR 34051-

Location: 448, 449, 450, 451, 452, 455

Landholding Agency: Navy

Property Number: 77199920123

Status: Underutilized

Reason: Secured Area.

Bldg. 458

STOP 7½ Compound, Naval Reservation

San Juan Co: PR 34051-

Landholding Agency: Navy

Property Number: 77199920124

Status: Underutilized

Reason: Extensive deterioration.

Bldgs. 461, 2157

STOP 7½ Compound, Naval Reservation

San Juan Co: PR 34051-

Landholding Agency: Navy

Property Number: 77199920125

Status: Underutilized

Reason: Secured Area.

Bldgs. 28-29

STOP 7½ Compound, Naval Reservation

San Juan Co: PR 34051-

Landholding Agency: Navy

Property Number: 77199920126

Status: Unutilized

Reason: Extensive deterioration.

Bldgs. 30-31

STOP 7½ Compound, Naval Reservation

San Juan Co: PR 34051-

Landholding Agency: Navy

Property Number: 77199920127

Status: Unutilized

Reason: Extensive deterioration.

Bldg. 104

STOP 7½ Compound, Naval Reservation

San Juan Co: PR 34051-

Landholding Agency: Navy

Property Number: 77199920128

Status: Unutilized

Reason: Extensive deterioration.

Bldg. 459

STOP 7½ Compound, Naval Reservation

San Juan Co: PR 34051-

Landholding Agency: Navy

Property Number: 77199920129

Status: Unutilized

Reason: Extensive deterioration.

Structure 460

STOP 7½ Compound Naval Reservation

San Juan Co: PR 34051-

Landholding Agency: Navy

Property Number: 77199920130

Status: Underutilized

Reason: Secured Area.

Rhode Island

Bldg. 52

Gould Island, Naval Station

Newport Co: RI 00000-

Landholding Agency: Navy

Property Number: 77199930020

Status: Excess

Reasons: Not accessible by road, Extensive deterioration.

South Carolina

Bldg. 49

Naval Public Works Center

Goose Creek Co: Berkeley SC 29445-

Landholding Agency: Navy

Property Number: 77200020062

Status: Unutilized

Reasons: Secured Area, Extensive deterioration.

Bldg. 38

Naval Air Station

Goose Creek Co: Berkeley SC 29445-

Landholding Agency: Navy

Property Number: 77200020105

Status: Unutilized

Reasons: Secured Area, Extensive deterioration.

4 Industrial Bldgs.

Naval Weapons Station

Charleston

88, 92, 94, 354

Goose Creek Co: Berkeley SC 29445-

Landholding Agency: Navy

Property Number: 77200020113

Status: Unutilized

Reasons: Within 2000 ft. of flammable or explosive material Secured Area.

4 Heat Plant Bldgs.

Naval Weapons Station

Charleston

89, 95, 355, 438

Goose Creek Co: Berkeley SC 29445-

Landholding Agency: Navy

Property Number: 77200020114

Status: Unutilized

Reasons: Within 2000 ft. of flammable or explosive material Secured Area.

8 Security Bldgs.

Naval Weapons Station

Charleston

313, 859, 860, 897, 918, 1654, 1655, 3217

Goose Creek Co: Berkeley SC 29445-

Landholding Agency: Navy

Property Number: 77200020115

Status: Unutilized

Reasons: Within 2000 ft. of flammable or explosive material Secured Area.

8 Storage Bldgs.

Naval Weapons Station

Charleston

307, 353, 799, 831, 861, 933, 984, 994

Goose Creek Co: Berkeley SC 29445-

Landholding Agency: Navy

Property Number: 77200020116

Status: Unutilized

Reasons: Within 2000 ft. of flammable or explosive material Secured Area.

6 Bldgs.

Naval Weapons Station

Charleston

183, 855, 868, 968, 3238, 408

Goose Creek Co: Berkeley SC 29945-

Landholding Agency: Navy

Property Number: 77200020117

Status: Unutilized

Reasons: Within 2000 ft. of flammable or explosive material Secured Area.

Tennessee

20 Bldgs.

Naval Support Activity

Millington Co: Shelby TN 38054-

Location: 766, 1597-1598, 5238, 435-446, S239, S75, 1211, 1379

Landholding Agency: Navy

Property Number: 77199940027

Status: Excess

Reasons: Secured Area, Extensive deterioration.

Texas

Bldgs. 1561, 1562, 1563

Naval Air Station Joint

Reserve Base

Ft. Worth Co: Tarrant TX 76127-6200

Landholding Agency: Navy

Property Number: 77199820050

Status: Unutilized

Reasons: Secured Area, Extensive deterioration.

Bldg. 1190

Naval Air Station Joint

Reserve Base

Ft. Worth Co: Tarrant TX 76127-6200

Landholding Agency: Navy

Property Number: 77199820053

Status: Unutilized

Reason: Secured Area.

Bldg. 1820

Naval Air Station Joint

Reserve Base

Ft. Worth Co: Tarrant TX 76127-6200

Landholding Agency: Navy

Property Number: 77199820054

Status: Unutilized

Reasons: Secured Area, Extensive deterioration.

Facilities 105 and 105C

Naval Station

Corpus Christi Co: Nueces TX 78419-5021

Landholding Agency: Navy

Property Number: 77199910012

Status: Unutilized

Reason: Extensive deterioration.

Bldg. 101

Naval Air Station

Corpus Christi Co: Nueces TX 78419-5021

Landholding Agency: Navy

Property Number: 77199940052

Status: Excess

Reason: Extensive deterioration.

Bldg. 198

Naval Air Station

Corpus Christi Co: Nueces TX 78419-5021

Landholding Agency: Navy

Property Number: 77199940053

Status: Excess

Reason: Extensive deterioration.

Bldg. 1104

Naval Air Station

Corpus Christi Co: Nueces TX 78419-5021

Landholding Agency: Navy

Property Number: 77199940054

Excess

Reason: Extensive deterioration.

Bldg. 1198

Naval Air Station

Corpus Christi Co: Nueces TX 78419-5021

Landholding Agency: Navy

Property Number: 77199940055

Status: Excess

Reason: Extensive deterioration.

Bldg. 1823

Naval Air Station

Corpus Christi Co: Nueces TX 78419-5021

Landholding Agency: Navy

Property Number: 77199940056

Status: Excess

Reason: Extensive deterioration.

Bldg. H-9

Naval Air Station

Corpus Christi Co: Nueces TX 78419-5021

Landholding Agency: Navy

Property Number: 77199940057

Status: Excess

Reason: Extensive deterioration.

Bldg. H-45

Naval Air Station

Corpus Christi Co: Nueces TX 78419-5021

Landholding Agency: Navy

Property Number: 77199940058

Status: Excess

Reason: Extensive deterioration.

Bldg. H-54

Naval Air Station

Corpus Christi Co: Nueces TX 78419-5021

Landholding Agency: Navy

Property Number: 77199940059

Status: Excess

Reason: Extensive deterioration.

Virginia

Bldg. 02

Naval Weapons Station

Yorktown Co: York VA 23691-

Landholding Agency: Navy

Property Number: 77199810073

Status: Excess

Reason: Extensive deterioration.

Bldg. 2208

Naval Medical Clinic

Quantico VA

Landholding Agency: Navy

Property Number: 77199820001

Status: Unutilized

Reason: Extensive deterioration.

Bldg. 358, 359

Cheatham Annex

Williamsburg VA 23185-

Landholding Agency: Navy

Property Number: 77199820023

Status: Excess

Reason: Extensive deterioration.

Bldg. CAD-43

Cheatham Annex

Williamsburg VA 23185-

Landholding Agency: Navy

Property Number: 77199820024

Status: Excess

Reason: Extensive deterioration.

Bldg. CAD-102

Naval Air Station

Cheatham Annex

Williamsburg VA 23185-

Landholding Agency: Navy

Property Number: 77199820025

Status: Excess

Reason: Extensive deterioration.

Bldg. CAD-102A

Cheatham Annex

Williamsburg VA 23185-

Landholding Agency: Navy

Property Number: 77199820026

Status Excess

Reason: Extensive deterioration.

Bldg. CAD-127

Cheatham Annex

Williamsburg VA 23185-

Landholding Agency: Navy

Property Number: 77199820027

Status: Excess

Reason: Extensive deterioration.

CAD-40

Cheatham Annex

Williamsburg VA 23185-

Landholding Agency: Navy

Property Number: 77199830084

Status: Unutilized

Reasons: Secured Area, Extensive deterioration.

Bldg. 3074

Marine Corps Base

Quantico Co: VA 22134-

Landholding Agency: Navy

Property Number: 77199920026

Status: Unutilized

Reason: Extensive deterioration.

Bldg. 449

Norfolk Naval Shipyard

Portsmouth Co: VA 23709-

Landholding Agency: Navy

Property Number: 77199920068

Status: Excess

Reason: Extensive deterioration.

Bldg. 450

Norfolk Naval Shipyard

Portsmouth Co: VA 23709-

Landholding Agency: Navy

Property Number: 77199920069

Status: Excess

Reason: Extensive deterioration.

Bldg. 451

Norfolk Naval Shipyard

Portsmouth Co: VA 23709-

Landholding Agency: Navy

Property Number: 77199920070

Status: Excess

Reason: Extensive deterioration.

Bldg. 453

Norfolk Naval Shipyard

Portsmouth Co: VA 23709-

Landholding Agency: Navy

Property Number: 77199920071

Status: Excess

Reason: Extensive deterioration.

Bldg. 454

Norfolk Naval Shipyard

Portsmouth Co: VA 23709-

Landholding Agency: Navy

Property Number: 77199920072

Status: Excess

Reason: Extensive deterioration.

Bldg. 708

Norfolk Naval Shipyard

Portsmouth Co: VA 23709-

Landholding Agency: Navy

Property Number: 77199920073

Status: Excess

Reason: Extensive deterioration.

Bldg. 709

Norfolk Naval Shipyard

Portsmouth Co: VA 23709-

Landholding Agency: Navy

Property Number: 77199920074

Status: Excess

Reason: Extensive deterioration.

Bldg. 710

Norfolk Naval Shipyard

Portsmouth Co: VA 23709-

Landholding Agency: Navy

Property Number: 77199920075

Status: Excess

Reason: Extensive deterioration.

Bldg. 711

Norfolk Naval Shipyard

Portsmouth Co: VA 23709-

Landholding Agency: Navy

Property Number: 77199920076

Status: Excess

Reason: Extensive deterioration.

Bldg. 712

Norfolk Naval Shipyard

Portsmouth Co: VA 23709-

Landholding Agency: Navy

Property Number: 77199920077

Status: Excess

Reason: Extensive deterioration.

Bldg. 713

Norfolk Naval Shipyard

Portsmouth Co: VA 23709-

Landholding Agency: Navy

Property Number: 77199920078

Status: Excess

Reason: Extensive deterioration.

Bldg. 714

Norfolk Naval Shipyard

Portsmouth Co: VA 23709-

Landholding Agency: Navy

Property Number: 77199920079

Status: Excess

Reason: Extensive deterioration.

Bldg. 715

Norfolk Naval Shipyard

Portsmouth Co: VA 23709-

Landholding Agency: Navy

Property Number: 77199920080

Status: Excess

Reason: Extensive deterioration.

Bldg. 716

Norfolk Naval Shipyard

Portsmouth Co: VA 23709-

Landholding Agency: Navy

Property Number: 77199920081

Status: Excess

Reason: Extensive deterioration.

Bldg. 717

Norfolk Naval Shipyard

Portsmouth Co: VA 23709-

Landholding Agency: Navy

Property Number: 77199920082

Status: Excess

Reason: Extensive deterioration.

Bldg. 718

Norfolk Naval Shipyard

Portsmouth Co: VA 23709-

Landholding Agency: Navy

Property Number: 77199920083

Status: Excess

Reason: Extensive deterioration.

Bldg. 1454

Norfolk Naval Shipyard

Portsmouth Co: VA 23709-

Landholding Agency: Navy

Property Number: 77199920084

Status: Excess

Reason: Extensive deterioration.

Bldg. 3170

Marine Corps Base

Quantico Co: VA 22134-

Landholding Agency: Navy

Property Number: 77199940064

Status: Unutilized

Reason: Extensive deterioration.

Bldg. 1252, 1277

Marine Corps Base

Quantico Co: VA 22134-

Landholding Agency: Navy

Property Number: 77199940065

Status: Unutilized

Reason: Extensive deterioration.

Bldg. 7

Naval Weapons Station

Yorktown Co: VA 23691-

Landholding Agency: Navy

Property Number: 77200020009

Status: Unutilized

Reasons: Within 2000 ft. of flammable or explosive material, Secured Area.

Bldg. 12

Naval Weapons Station

Yorktown Co: VA 23691-

Landholding Agency: Navy

Property Number: 77200020010

Status: Unutilized

Reasons: Within 2000 ft. of flammable or explosive material, Secured Area, Extensive deterioration.

Bldg. 24

Naval Weapons Station

Yorktown Co: VA 23691-

Landholding Agency: Navy

Property Number: 77200020011

Status: Unutilized

Reasons: Within 2000 ft. of flammable or explosive material, Secured Area.

Bldg. 34

Naval Weapons Station

Yorktown Co: VA 23691-

Landholding Agency: Navy

Property Number: 77200020012

Status: Unutilized

Reasons: Within 2000 ft. of flammable or explosive material, Secured Area, Extensive deterioration.

Bldg. 108

Naval Weapons Station

Yorktown Co: VA 23691-

Landholding Agency: Navy

Property Number: 77200020013

Status: Unutilized

Reasons: Within 2000 ft. of flammable or explosive material, Secured Area, Extensive deterioration.

Bldg. 299

Naval Weapons Station

Yorktown Co: VA 23691-

Landholding Agency: Navy

Property Number: 77200020014

Status: Unutilized

Reasons: Within 2000 ft. of flammable or explosive material, Secured Area, Extensive deterioration.

Bldg. 400

Naval Weapons Station

Yorktown Co: VA 23691-

Landholding Agency: Navy

Property Number: 77200020015

Status: Unutilized

Reasons: Within 2000 ft. of flammable or explosive material, Secured Area, Extensive deterioration.

Bldg. 436

Naval Weapons Station

Yorktown Co: VA 23691-

Landholding Agency: Navy

Property Number: 77200020016

Status: Unutilized

Reasons: Within 2000 ft. of flammable or explosive material, Secured Area, Extensive deterioration.

Bldgs. 442, 443

Naval Weapons Station

Yorktown Co: VA 23691-

Landholding Agency: Navy

Property Number: 77200020017

Status: Unutilized

Reasons: Within 2000 ft. of flammable or explosive material, Secured Area, Extensive deterioration.

Bldg. 530

Naval Weapons Station

Yorktown Co: VA 23691-

Landholding Agency: Navy

Property Number: 77200020018

Status: Unutilized

Reasons: Within 2000 ft. of flammable or explosive material, Secured Area, Extensive deterioration.

Bldg. 532

Naval Weapons Station

Yorktown Co: VA 23691-

Landholding Agency: Navy

Property Number: 77200020019

Status: Unutilized

Reasons: Within 2000 ft. of flammable or explosive material, Secured Area, Extensive deterioration.

Bldg. 646-651

Naval Weapons Station

Yorktown Co: VA 23691-

Landholding Agency: Navy

Property Number: 77200020020

Status: Unutilized

Reasons: Within 2000 ft. of flammable or explosive material, Secured Area, Extensive deterioration.

Bldgs. 758, 759

Naval Weapons Station

Yorktown Co: VA 23691-

Landholding Agency: Navy

Property Number: 77200020021

Status: Unutilized

Reasons: Within 2000 ft. of flammable or explosive material, Secured Area, Extensive deterioration.

Bldg. 764

Naval Weapons Station

Yorktown Co: VA 23691-

Landholding Agency: Navy

Property Number: 77200020022

Status: Unutilized

Reasons: Within 2000 ft. of flammable or explosive material, Secured Area, Extensive deterioration.

Bldg. 784

Naval Weapons Station

Yorktown Co: VA 23691-

Landholding Agency: Navy

Property Number: 77200020023

Status: Unutilized

Reasons: Within 2000 ft. of flammable or explosive material, Secured Area, Extensive deterioration.

Bldg. 786

Naval Weapons Station

Yorktown

Yorktown Co: VA 23691-

Landholding Agency: Navy

Property Number: 77200020024

Status: Unutilized

Reasons: Within 2000 ft. of flammable or explosive material, Secured Area, Extensive deterioration.

Bldg. 788

Naval Weapons Station

Yorktown Co: VA 23691-

Landholding Agency: Navy

Property Number: 77200020025

Status: Unutilized

Reasons: Within 2000 ft. of flammable or explosive material, Secured Area, Extensive deterioration.

Bldg. 790

Naval Weapons Station

Yorktown Co: VA 23691-

Landholding Agency: Navy

Property Number: 77200020026

Status: Unutilized

Reasons: Within 2000 ft. of flammable or explosive material, Secured Area, Extensive deterioration.

Bldg. 814

Naval Weapons Station

Yorktown Co: VA 23691-

Landholding Agency: Navy

Property Number: 77200020027

Status: Unutilized

Reasons: Within 2000 ft. of flammable or explosive material, Secured Area, Extensive deterioration.

Bldgs. 1955-1957

Naval Weapons Station

Yorktown Co: VA 23691-

Landholding Agency: Navy

Property Number: 77200020028

Status: Unutilized

Reasons: Within 2000 ft. of flammable or explosive material, Secured Area, Extensive deterioration.

Bldgs. 1960, 1961, 1964

Naval Weapons Station

Yorktown Co: VA 23691-

Landholding Agency: Navy

Property Number: 77200020029

Status: Unutilized

Reasons: Within 2000 ft. of flammable or explosive material, Secured Area, Extensive deterioration.

Bldgs. 1980, 1981

Naval Weapons Station

Yorktown Co: VA 23691-

Landholding Agency: Navy

Property Number: 77200020030

Status: Unutilized

Reasons: Within 2000 ft. of flammable or explosive material, Secured Area, Extensive deterioration.

Bldg. 160

Cheatham Annex

Williamsburg Co: VA 23185-5830

Landholding Agency: Navy

Property Number: 77200020031

Status: Unutilized

Reasons: Secured Area, Extensive deterioration.

CEP-12

Naval Station Norfolk

Norfolk Co: VA 23511-

Landholding Agency: Navy

Property Number: 77200020042

Status: Excess

Reason: Extensive deterioration.

CEP-62

Naval Station Norfolk

Norfolk Co: VA 23511-

Landholding Agency: Navy

Property Number: 77200020043

Status: Excess

Reason: Extensive deterioration.

CEP-206

Naval Station Norfolk

Norfolk Co: VA 23511-

Landholding Agency: Navy

Property Number: 77200020044

Status: Excess

Reason: Extensive deterioration.

Bldg. 1453

Norfolk Naval Shipyard

Portsmouth Co: VA 23709-5000

Landholding Agency: Navy

Property Number: 77200020063

Status: Unutilized

Reason: Secured Area Extensive deterioration.

Bldg. SP-76

Naval Station

Norfolk Co: VA 23511-

Landholding Agency: Navy

Property Number: 77200020078

Status: Unutilized

Reason: Extensive deterioration.

Bldgs. 101, 239

Norfolk Station

St. Julien's Creek Annex

Portsmouth Co: VA 23511-

Landholding Agency: Navy

Property Number: 77200020102

Status: Unutilized

Reason: Extensive deterioration.

Facility 189

Norfolk Station

St. Julien's Creek Annex

Portsmouth Co: VA 23511-

Landholding Agency: Navy

Property Number: 77200020103

Status: Unutilized

Reason: Extensive deterioration.

Facility 190

Norfolk Station

St. Juliens Creek Annex

Portsmouth Co: VA 23511-

Landholding Agency: Navy

Property Number: 77200020104

Status: Unutilized

Reason: Extensive deterioration.

Washington

Bldg. 6661

Naval Submarine Base, Bangor

Silverdale Co: Kitsap WA 98315-6499

Landholding Agency: Navy

Property Number: 77199730039

Status: Unutilized

Reason: Secured Area.

Bldg. 604

Manchester Fuel Department

Port Orchard WA 98366-

Landholding Agency: Navy

Property Number: 77199810170

Status: Excess

Reasons: Within 2000 ft. of flammable or explosive material, Secured Area.

Bldg. 288

Fleet Industrial Supply Center

Bremerton WA 98314-5100

Landholding Agency: Navy

Property Number: 77199810171

Status: Excess

Reason: Within 2000 ft. of flammable or explosive material, Secured Area.

Bldg. 47

Naval Radio Station T Jim Creek

Arlington Co: Snohomish WA 98223-

Landholding Agency: Navy

Property Number: 77199820056

Status: Unutilized

Reason: Secured Area, Extensive deterioration.

Bldg. 48

Naval Radio Station T Jim Creek

Arlington Co: Snohomish WA 98223-

Landholding Agency: Navy

Property Number: 77199820057

Status: Unutilized

Reason: Secured Area, Extensive deterioration.

Coal Handling Facilities

Puget Sound Naval Shipyard

#908, 919, 926-929

Bremerton WA 98314-5000

Landholding Agency: Navy

Property Number: 77199820142

Status: Excess

Reason: Within 2000 ft. of flammable or explosive material.

Bldg. 193

Puget Sound Naval Shipyard

Bremerton WA 98310-

Landholding Agency: Navy

Property Number: 77199820143

Status: Unutilized

Reason: contamination.

Bldg. 202

Naval Air Station Whidbey Island

Oak Harbor WA 98278-

Landholding Agency: Navy

Property Number: 77199830019

Status: Excess

Reason: Within 2000 ft. of flammable or explosive material.

Bldg. 2649

Naval Air Station Whidbey Island

Oak Harbor WA 98278-

Landholding Agency: Navy

Property Number: 77199830020

Status: Excess

Reasons: Within 2000 ft. of flammable or explosive material, Extensive deterioration.

Bldgs. 35, 36

Naval Radio Station T Jim Creek

Arlington Co: Snohomish WA 98223-

Landholding Agency: Navy

Property Number: 77199830076

Status: Unutilized

Reason: Extensive deterioration.

Bldg. 918

Puget Sound Naval Shipyard

Bremerton WA 98314-5000

Landholding Agency: Navy

Property Number: 77199840020

Status: Unutilized

Reasons: Within 2000 ft. of flammable or explosive material, Secured Area.

Bldg. 894

Naval Undersea Warfare Center

Keyport Co: Kitsap WA 98345-7610

Landholding Agency: Navy

Property Number: 77199920085

Status: Underutilized

Reasons: Within 2000 ft. of flammable or explosive material, Secured Area.

Bldg. 73

Naval Undersea Warfare Center

Keyport Co: Kitsap WA 98345-

Landholding Agency: Navy

Property Number: 77199920152

Status: Underutilized

Reasons: Within 2000 ft. of flammable or explosive material, Secured Area.

Bldg. 210A

Naval Station Bremerton

Bremerton Co: WA 98314-

Landholding Agency: Navy

Property Number: 77199930021

Status: Excess

Reasons: Within 2000 ft. of flammable or explosive material, Secured Area.

Bldg. 511

Naval Station Bremerton

Bremerton Co: WA 98314-

Landholding Agency: Navy

Property Number: 77199930022

Status: Excess

Reasons: Within 2000 ft. of flammable or explosive material, Secured Area, Extensive deterioration.

Bldg. 527

Naval Station Bremerton

Bremerton Co: WA 98314-

Landholding Agency: Navy

Property Number: 77199930023

Status: Excess

Reasons: Within 2000 ft. of flammable or explosive material, Secured Area.

Bldg. 97

Naval Air Station Whidbey Island

Oak Harbor Co: WA 98278-

Landholding Agency: Navy

Property Number: 77199930040

Status: Unutilized

Reason: Extensive deterioration.

Bldg. 331

Naval Undersea Warfare Center

Keyport Co: Kitsap WA 98345-

Landholding Agency: Navy

Property Number: 77199930041

Status: Unutilized

Reasons: Secured Area, Extensive deterioration.

Bldg. 786

Naval Undersea Warfare Center

Keyport Co: Kitsap WA 98345-

Landholding Agency: Navy

Property Number: 77199930042

Status: Unutilized

Reasons: Secured Area, Extensive deterioration.

Bldg. 15

Naval Air Station, Whidbey Island

Oak Harbor Co: WA 98278-3500

Landholding Agency: Navy

Property Number: 77199930071

Status: Unutilized

Reason: Extensive deterioration.

Bldg. 119

Naval Air Station, Whidbey Island

Oak Harbor Co: WA 98278-3500

Landholding Agency: Navy

Property Number: 77199930072

Status: Unutilized

Reason: Extensive deterioration.

Bldg. 853

Naval Air Station, Whidbey Island

Oak Harbor Co: WA 98278-3500

Landholding Agency: Navy

Property Number: 77199930073

Status: Unutilized

Reason: Extensive deterioration.

Bldg. 854

Naval Air Station, Whidbey Island

Oak Harbor Co: WA 98278-3500

Landholding Agency: Navy

Property Number: 77199930074

Status: Unutilized

Reason: Extensive deterioration.

Bldg. 166

Puget Sound Naval Shipyard

Bremerton Co: WA 98314-5000

Landholding Agency: Navy

Property Number: 77199930101

Status: Excess

Reason: Secured Area.

Bldg. 287

Puget Sound Naval Shipyard

Bremerton Co: WA 98314-5000

Landholding Agency: Navy

Property Number: 77199930102

Status: Excess

Reason: Secured Area.

Bldg. 418

Puget Sound Naval Shipyard

Bremerton Co: WA 98314-5000

Landholding Agency: Navy

Property Number: 77199930103

Status: Excess

Reason: Secured Area.

Bldg. 858

Puget Sound Naval Shipyard

Bremerton Co: WA 98314-5000

Landholding Agency: Navy

Property Number: 77199930104

Status: Excess

Reason: Secured Area.

Bldg. 17

Naval Radio Station

Jim Creek

Arlington Co: WA 98223-8599

Landholding Agency: Navy

Property Number: 77200010073

Status: Excess

Reasons: Secured Area, Extensive deterioration.

Bldg. 47

Naval Undersea Warfare

Keyport Co: Kitsap WA 98345-7610

Landholding Agency: Navy

Property Number: 77200010074

Status: Unutilized

Reason: Within 2000 ft. of flammable or explosive materials, Secured Area.

Whitney Point Complex

Brinnon Co: Jefferson WA 98320-9899

Landholding Agency: Navy

Property Number: 77200010102

Status: Excess

Reason: Extensive deterioration.

Bldg. 398

Naval Station

Bremerton Co: WA 98314-5000

Landholding Agency: Navy

Property Number: 77200020038

Status: Unutilized

Reason: Within 2000 ft. of flammable or explosive materials, Secured Area.

Bldg. 976

Naval Station

Bremerton Co: WA 98314-5020

Landholding Agency: Navy

Property Number: 77200020039

Status: Unutilized

Reasons: Within 2000 ft. of flammable or explosive material, Secured Area, Extensive deterioration.

8 Bldgs.

Naval Station

902, 903, 905, 907, 909-911, 915

Bremerton Co: WA 98314-5020

Landholding Agency: Navy

Property Number: 77200020040

Status: Unutilized

Reasons: Within 2000 ft. of flammable or explosive material, Secured Area.

Land (by State)

California

Space Surv. Field Station

Portion/Off Heritage Road

San Diego CA 90012-1408

Landholding Agency: Navy

Property Number: 77199820049

Status: Excess

Reason: Within 2000 ft. of flammable or explosive material.

Land

Naval Construction Battalion Center

Port Hueneme Co: Ventura CA 93043-4301

Landholding Agency: Navy

Property Number: 77199940001

Status: Underutilized

Reason: Secured Area.

PCL-4 (11.60 acres)

Construction Battalion Center

Port Hueneme Co: Ventura CA 93043-4301

Landholding Agency: Navy

Property Number: 77200020095

Status: Underutilized

Reason: Secured Area.

Maryland

6 Acres

Naval Air Station

Patuxent River Co: MD 20670-

Landholding Agency: Navy

Property Number: 77199940023

Status: Unutilized

Reason: Secured Area.

Land—5000 sq. ft.

Naval Air Station

Patuxent River Co: MD 20670-1603

Landholding Agency: Navy

Property Number: 77200010023

Status: Unutilized

Reason: Secured Area.

New Hampshire

Parcel #4

Portsmouth Naval Shipyard

Portsmouth Co: NH 03804-5000

Landholding Agency: Navy

Property Number: 77200010028

Status: Underutilized

Reasons: Within 2000 ft. of flammable or explosive material, Secured Area.

Parcel #5

Portsmouth Naval Shipyard

Portsmouth Co: NH 03804-5000

Landholding Agency: Navy

Property Number: 77200010029

Status: Underutilized

Reasons: Within 2000 ft. of flammable or explosive material, Secured Area.

Parcel #6

Portsmouth Naval Shipyard

Portsmouth Co: NH 03804-5000

Landholding Agency: Navy

Property Number: 77200010030

Status: Underutilized

Reasons: Within 2000 ft. of flammable or explosive material, Secured Area.

Parcel #7

Portsmouth Naval Shipyard

Portsmouth Co: NH 03804-5000

Landholding Agency: Navy

Property Number: 77200010031

Status: Underutilized

Reasons: Within 2000 ft. of flammable or explosive material, Secured Area.

North Carolina

0.85 parcel of land

Marine Corps Air Station,

Cherry Point

Havelock Co: Craven NC 28533-

Landholding Agency: Navy

Property Number: 77199740074

Status: Unutilized

Reason: Secured Area.

0.1291 acres

Camp Lejeune

off Dogwood

Camp Lejeune Co: Onslow NC 28542-

Landholding Agency: Navy

Property Number: 77200010069

Status: Unutilized

Reason: Secured Area.

0.1291 acres

Camp Lejeune

off Brewster Rd.

Camp Lejeune Co: Onslow NC 28542-

Landholding Agency: Navy

Property Number: 77200010070

Status: Unutilized

Reason: Secured Area.

Washington

Land-Port Hadlock Detachment

Naval Ordnance Center

Pacific Division

Port Hadlock Co: Jefferson WA 98339-

Landholding Agency: Navy

Property Number: 77199640019

Status: Underutilized

Reasons: Within 2000 ft. of flammable or explosive material, Secured Area.

[FR Doc. 00-25427 Filed 10-5-00; 8:45 am]

BILLING CODE 4210-29-M